NUCLEAR REGULATORY COMMISSION

10 CFR Parts 170 and 171

[NRC-2014-0200]

RIN 3150-AJ44

Revision of Fee Schedules; Fee Recovery for Fiscal Year 2015

AGENCY: Nuclear Regulatory Commission.

ACTION: Final rule.

SUMMARY: The U.S. Nuclear Regulatory Commission (NRC) is amending the licensing, inspection, and annual fees charged to its applicants and licensees. These amendments are necessary to implement the Omnibus Budget Reconciliation Act of 1990 (OBRA-90), as amended, which requires the NRC to recover through fees approximately 90 percent of its budget authority in Fiscal Year (FY) 2015, not including amounts appropriated for Waste Incidental to Reprocessing (WIR), the Nuclear Waste Fund (NWF), generic homeland security activities, and Inspector General (IG) services for the Defense Nuclear Facilities Safety Board (DNFSB). These fees represent the cost of the NRC's services provided to applicants and licensees.

DATES: This final rule is effective on August 31, 2015.

ADDRESSES: Please refer to Docket ID NRC-2014-0200 when contacting the NRC about the availability of information for this final rule. You may access publicly-available information related to this final rule by any of the following methods:

• Federal Rulemaking Web site: Go to http://www.regulations.gov and search for Docket ID NRC-2014-0200. Address questions about NRC dockets to Carol Gallagher; telephone: 301-415-3463; email: Carol.Gallagher@nrc.gov. For technical questions contact the individual listed in the FOR FURTHER INFORMATION CONTACT section of this final rule.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. For the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Arlette Howard, Office of the Chief Financial Officer, U.S. Nuclear Regulatory Commission, Washington, DC 20555-0001, telephone: 301-415-1481, email: Arlette.Howard@nrc.gov.

SUPPLEMENTARY INFORMATION:

I. Background

II. Discussion

III. Opportunities for Public Participation

IV. Public Comment Analysis

V. Section-by-Section Analysis

VI. Regulatory Flexibility Certification

VII. Regulatory Analysis

VIII. Backfitting and Issue Finality

IX. Plain Writing

X. National Environmental Policy Act

XI. Paperwork Reduction Act

XII. Congressional Review Act

XIII. Voluntary Consensus Standards

XIV. Availability of Guidance

XV. Availability of Documents

I. Background

Over the past 40 years the NRC (and earlier, as the Atomic Energy Commission, the NRC's predecessor agency) has assessed and continues to assess fees to applicants and licensees to recover the cost of its regulatory program. The NRC's cost recovery principles for fee regulation are governed by two major laws: (1) The Independent Offices Appropriations Act of 1952 (IOAA) (31 U.S.C. 483 (a)); and (2) OBRA-90 (42 U.S.C. 2214), as amended. The NRC is required each year, under OBRA-90, as amended, to recover approximately 90 percent of its budget authority, not including amounts appropriated for WIR, generic homeland security activities, the NWF, and IG services for the DNFSB, through fees to NRC licensees and applicants.

In addition to the requirements of OBRA-90, as amended, the NRC is also required to comply with the requirements of the Small Business Regulatory Enforcement Fairness Act of 1996. This Act encourages small businesses to participate in the regulatory process, and requires agencies to develop more accessible sources of information on regulatory and reporting requirements for small businesses and create a small entity compliance guide. In this final rule, the NRC continues using a fee methodology for qualifying small entities that establishes a maximum annual fee and minimum annual fee at a reduced rate to ease the financial burden for these licensees.

In compliance with the OBRA-90, as amended, requirement that the NRC collect approximately 90 percent of its budget authority through fee collection by the end of the fiscal year, this rulemaking is based on the $1,015.3 million in appropriations received by the NRC as a result of the Consolidated and Further Continuing Appropriations Act, 2015 (Pub. L. 113-235), signed by President Obama on December 16, 2014.

II. Discussion

In compliance with OBRA-90, as amended, and the Atomic Energy Act of 1954 (AEA), the NRC amends its fee schedules for parts 170 and 171 of Title 10 of the Code of Federal Regulations (10 CFR) to recover approximately 90 percent of its FY 2015 budget authority, less the amounts appropriated for WIR, the NWF, generic homeland security activities, and IG services for the DNFSB. The 10 CFR part 170 user fees, under the authority of the IOAA, recover the NRC's costs of providing specific regulatory benefits to identifiable applicants and licensees. For example, the NRC assesses these fees to cover the costs of inspections, applications for new licenses and license renewals, and requests for license amendments. The 10 CFR part 171 annual fees, on the other hand, recover generic regulatory costs that are not otherwise recovered through 10 CFR part 170 fees.

FY 2015 Fee Collection

The NRC received total appropriations of $1,015.3 million for FY 2015 as a result of Public Law 113-235, a decrease of $40.6 million from FY 2014. Based on OBRA-90, as amended, the NRC is required to recover $895.5 million through 10 CFR part 170 (user charges) and 10 CFR part 171 (annual fees) for FY 2015. This amount excludes non-fee items for WIR activities totaling $1.4 million, IG services for the DNFSB totaling $0.9 million, and generic homeland security activities totaling $18.1 million. This required fee recovery amount is $35.2 million less than the FY 2014 required fee recovery amount of $930.7 million. After accounting for prior year billing adjustments, the fee recoverable budget is further reduced to $888.7 million to be billed as fees to licensees and applicants under 10 CFR parts 170 and 171. This amount represents a decrease of $30.2 million from FY 2014 final rule and a decrease of $37.5 million from the FY 2015 proposed fee rule published on March 23, 2015 (80 FR 15746). This decrease is due to the fact that the FY 2015 proposed fee rule was based on the President's proposed budget, rather than the actual FY 2015 appropriation, which included a reduction for fee-based unobligated carryover.

Table I summarizes the final budget and fee recovery amounts for the FY 2015 final fee rule. The FY 2014 amounts are provided for comparison purposes. (Individual values may not sum to totals due to rounding.)

Table I—Budget and Fee Recovery Amounts
[Dollars in millions]
| FY 2014 Final rule | FY 2015 Final rule
Total Budget Authority | $1,055.9 | $1,015.3
Less Non-Fee Items | −21.8 | −$20.3
Balance | $1,034.1 | $995.0
Fee Recovery Rate | 90% | 90%
Total Amount to be Recovered: | $930.7 | $895.5
10 CFR Part 171 Billing Adjustments:
Unpaid Current Year Invoices (estimated) | 0.5 | 2.8
Less Current Year from Collections (Terminated—Operating Reactors) | −2.2 | 0
Less Payments Received in Current Year for Previous Year Invoices (estimated) | −12.3 | −9.6
Subtotal | −14.0 | −6.8
Amount to be Recovered through 10 CFR Parts 170 and 171 Fees | $916.7 | $888.7
Less Estimated 10 CFR Part 170 Fees | −332.5 | −$321.7
Less Prior Year Unbilled 10 CFR Part 170 Fees | −0.0 | −0.0
10 CFR Part 171 Fee Collections Required | $584.2 | $567.0

Changes From the FY 2014 Final Fee Rule

In this final fee rule, the NRC amends fees for power reactors, spent fuel storage/reactor decommissioning, nonpower reactors, uranium recovery facilities, fuel facilities, materials users, and the U.S. Department of Energy's (DOE) transportation license as compared to the FY 2014 final rule. The total amount of annual fees to be recovered, $567 million, represents a decrease of $19.4 million from the FY 2014 final rule. Overall, annual fees for operating reactors decrease as a result of reduced budgetary resources, but this decrease is partially offset by a decline in 10 CFR part 170 billings and the permanent shutdown of Vermont Yankee. Additionally, annual fees for the fuel facilities fee class increase from FY 2014 as a result of the following: (1) Reduced 10 CFR part 170 billings for operational readiness reviews and inspections due to significant delays in construction; and (2) the termination of the certificate for the United States Enrichment Corporation's Paducah, Kentucky facility. For the transportation fee class, the annual fees increase from FY 2014, primarily due to rulemaking activities concerning 10 CFR part 71 compatibility with the International Atomic Energy Agency's transportation standards and improvements. Additionally, the increase in the annual fee for the transportation fee class is attributed to reduced 10 CFR part 170 billings caused by shifts in workload priorities. For 10 CFR part 170 hourly fees, the total amount to be recovered is $321.7 million, a decrease of $10.8 million from FY 2014.

Changes From the FY 2015 Proposed Fee Rule (Including the FY 2015 Estimated Final Rule Amounts)

In comparison to the FY 2015 proposed fee rule and the estimated FY 2015 final budget and fee rule recovery amounts, the NRC will collect $321.7 million in hourly fees (user charges), a decrease of $2.6 million from both estimates, respectively, for this final rule. This change is a result of the decline in estimated 10 CFR part 170 collections for the power reactor fee class due to unexpected application suspensions (particularly, the U.S. Evolutionary Power Reactor (EPR) design certification application and the Calvert Cliffs combined license application). The NRC will collect $567 million in annual fees, a decrease of $34.9 million from the FY 2015 proposed fee rule estimate and an increase of $4.8 million from the estimated FY 2015 final annual fees total. The change from the FY 2015 proposed fee rule and estimated FY 2015 final annual fees total is the result of the reduced estimated 10 CFR part 170 collections, as well as the 10 CFR part 171 billing adjustment.

The NRC proposed to establish an annual fee for rare earth facilities in the proposed FY 2015 fee rule. At the time the NRC issued its proposed fee rule, the NRC estimated that a portion of the budgeted resources for this fee class was not going to be collected through 10 CFR part 170 user fees, therefore requiring the establishment of an annual part 10 CFR part 171 fee to recover the remainder of the budgeted authority for this fee class. Upon further analysis, the NRC determined all budgeted resources for the rare earth facilities will be collected through 10 CFR part 170 this fiscal year. Therefore, NRC lacks a statutory basis to assess 10 CFR part 171 fees to this fee class, because that fee would not bear a reasonable relationship to the cost of providing generic NRC services, as there are no generic activities supporting this fee class. Therefore, in this final rule, the NRC omits the annual fee for rare earth facilities.

Hourly Rate

The NRC's hourly rate is used in assessing full cost fees for specific services provided by the NRC, as well as flat fees for activities such as NRC review of applications. For FY 2015, the NRC's hourly rate is $268, a decrease of $9 from the hourly rate in the FY 2015 proposed fee rule. The FY 2014 hourly rate (the current hourly rate) is $279. This rate is applicable to all activities for which fees are assessed under §§ 170.21 and 170.31.

The decrease in the FY 2015 hourly rate is due to an increase in estimated direct hours worked per mission-direct full-time equivalent (FTE) during the year and reduced budget. The hourly rate is inversely related to the mission-direct FTE rate. Therefore, as the FTE rate increases, the hourly rate decreases.

The NRC's hourly rate is derived by dividing the sum of recoverable budgeted resources for: (1) Mission-direct program salaries and benefits; (2) mission-indirect program support; and (3) agency overhead or indirect costs—which includes corporate support, office support, and the IG. The mission-direct FTE hours are the product of the mission-direct FTE multiplied by the hours per direct FTE. The only budgeted resources excluded from the hourly rate are those for contract activities related to mission-direct and fee-relief activities. Billable contract activities are included as a separate line item on the 10 CFR part 170 invoice.

In FY 2015, the NRC used 1,420 hours per direct FTE to calculate the hourly fee rate, which is higher than the FY 2014 estimate of 1,375 hours per direct FTE and represents increased productivity. These hours exclude all indirect activities such as training and general administration. The NRC generated this figure by reviewing and analyzing current available time and labor data from FY 2010 through FY 2012. As a result of that review, the NRC determined that the direct hours per FTE for FY 2015 budget formulation should be revised.

Table II shows the results of the hourly rate calculation methodology. The FY 2014 amounts are provided for comparison purposes. (Individual values may not sum to totals due to rounding.)

Table II—Hourly Rate Calculation
| FY 2014 Final rule | FY 2015 Final rule
Mission-Direct Program Salaries & Benefits | $359.2 | $365.6
Mission-Indirect Program Support | $21.0 | $67.7
Agency Support (Corporate Support, Office Support and the IG) | $486.0 | $422.7
Subtotal | $866.2 | $856
Less Offsetting Receipts | −$0.0 | −$0.0
Total Budget Included in Hourly Rate (Millions of Dollars) | $866.2 | $856
Mission-Direct FTE (Whole numbers) | 2,254 | 2,250
Professional Hourly Rate (Total Budget Included in Hourly Rate Divided by Mission-Direct FTE Hours-1420) (Whole Numbers) | $279 | $268

As shown in Table II, dividing the FY 2015 $856 million budget amount included in the hourly rate by total mission-direct FTE hours (2,250 FTE times 1,420 hours) results in an hourly rate of $268. The hourly rate is rounded to the nearest whole dollar.

Flat Application Fee Changes

The NRC amends the current flat application fees in §§ 170.21 and 170.31 to reflect the revised hourly rate of $268. These flat fees are calculated by multiplying the average professional staff hours needed to process the licensing actions by the professional hourly rate for FY 2015. The agency estimates the average professional staff hours needed to process licensing actions every other year as part of its biennial review of fees performed in compliance with the Chief Financial Officers Act of 1990. The NRC performed this review for the FY 2015 proposed rule. The lower hourly rate of $268 is the primary reason for the decrease in application fees.

In general, any increases in application fees are due to the increased number of hours required to perform specific activities based on the biennial review. The NRC staff determined via a recent analysis that application fees for 12 fee categories (2.D., 3.C., 3.H., 3.M., 3.P., 3.R.2., 3.S., 4.B., 5.A., 7.A., 7.C., and 17 under § 170.31) will increase as a result of an increase in the average time spent processing these types of license applications. (Fee category 17 should have been counted in this analysis in the FY 2015 proposed fee rule.) The decrease in fees for 7 fee categories (2.C., 2.E., 2.F., 3.B., 3.I., 3.N., and 3.O. under § 170.31) is primarily due to the reduced hourly rate and a decrease in the average time to process these types of applications. Also, the NRC staff determined via a recent analysis that the application fees increase for 3 import and export fee categories (K.4., K.5., and 15.D. under § 170.31) and decrease for 13 import and export fee categories (15.A. thru 15.L., and 15.R. under § 170.31), an increase of 9 fee categories from the FY 2015 proposed fee rule as a result of the reduced hourly rate.

The amounts of the materials licensing flat fees are rounded so that the fees would be convenient to the user and the effects of rounding would be minimal. Fees under $1,000 are rounded to the nearest $10, fees that are greater than $1,000 but less than $100,000 are rounded to the nearest $100, and fees that are greater than $100,000 are rounded to the nearest $1,000.

The final licensing flat fees are applicable for fee categories K.1. through K.5. of § 170.21, and fee categories 1.C. through 1.D., 2.B. through 2.F., 3.A. through 3.S., 4.B. through 9.D., 10.B., 15.A. through 15.L., 15.R., and 16 of § 170.31. Applications filed on or after the effective date of the FY 2015 final fee rule would be subject to the revised fees in the final rule.

Application of Rebaselining, Fee-Relief, and Low-Level Waste (LLW) Surcharge

For this rulemaking, the NRC established rebaselined annual fees in accordance with SECY-05-0164, “Annual Fee Calculation Method,” September 15, 2005 (ADAMS Accession No. ML052580332). The rebaselining method analyzes the budget in detail and allocates the budgeted costs to various classes or subclasses of licensees. Stated otherwise, rebaselining is the annual reallocation of NRC resources based on changes in the NRC's budget. The NRC established the rebaselined methodology for calculating annual fees through notice and comment rulemaking in the FY 1999 fee rule (64 FR 31448; June 10, 1999), determining that base annual fees will be re-established (rebaselined) every third year, or more frequently if there is a substantial change in the total NRC budget or in the magnitude of the budget allocated to a specific class of licenses. The FY 2015 fee rulemaking used this same rebaselining methodology.

Moreover, in FY 2015, the NRC will use its fee-relief surcharge to increase all licensees' annual fees, based on their percentage share of the budget. Every year, the NRC applies the 10 percent of its budget that is excluded from fee recovery under OBRA-90 to offset the total budget allocated for activities that do not directly benefit current NRC licensees (these activities fall within the NRC's fee-relief category). The budget for these fee-relief activities is totaled, and then reduced by the amount of the NRC's fee relief. Any difference between the 10-percent appropriation and the budgeted amount of these activities results in a fee-relief adjustment (either an increase or decrease) to all licensees' annual fees, based on their percentage share of the budget. In FY 2015, there is an increase to all licensees' annual fees, for the reasons stated.

From the FY 2015 proposed fee rule, the most significant change under fee relief is under the scholarship and fellowship fee relief category. For this category, the budgetary resources increased to $18.9 million from $4.1 million because the FY 2015 appropriations require the NRC to fund the $15 million Integrated University Program.

Additionally, in the Staff Requirements Memorandum for SECY-14-0082, “Jurisdiction for Military Radium and U.S. Nuclear Regulatory Commission Oversight of U.S. Department of Defense Remediation of Radioactive Material” (ADAMS Accession No. ML14356A070), the Commission approved the staff's recommendation to finalize and implement a Memorandum of Understanding (MOU) with the U.S. Department of Defense (DOD) for remediation of DOD unlicensed sites containing radioactive materials subject to the NRC's regulatory authority. The MOU is slated to be finalized in FY 2015. As part of this effort, the Commission approved the establishment of a new fee-relief category for the regulatory activities for the monitoring of DOD unlicensed sites under the MOU. Consistent with this direction, the NRC includes a new activity under fee-relief activities, within 10 CFR part 170 licensing and inspection fees or 10 CFR part 171 annual fees. These program activities capture site-specific oversight activities performed under the MOU and any ongoing non-site specific MOU-related program activities. These activities will, therefore, be funded by the agency's 10-percent appropriation.

The FY 2015 budgeted resources for fee-relief activities are greater than the 10-percent fee relief amount by $1.0 million, which differs from the −$14.6 million mentioned in the FY 2015 proposed fee rule due to the reasons stated. After applying the generic LLW surcharge amount of $3.9 million, the total net adjustment to fee assessments is $4.9 million. The NRC allocates the LLW surcharge based on the volume of LLW disposal of three classes of licenses: operating reactors, fuel facilities, and materials users. Because LLW activities support NRC licensees and Agreement States, the costs of these activities are recovered through annual fees from NRC licensees.

In comparison, the FY 2014 fee relief resources were −$1.3 million. After applying the generic LLW surcharge amount of $3.2 million, the net FY 2014 fee relief adjustment to fee assessments was $1.9 million. Table III summarizes the fee-relief activities for FY 2015. The FY 2014 amounts are provided for comparison purposes. (Individual values may not sum to totals due to rounding.)

Table III—Fee-Relief Activities
[Dollars in millions]
Fee-relief activities | FY 2014 Budgeted costs | FY 2015 Budgeted costs
1. Activities not attributable to an existing NRC licensee or class of licensee:
a. International activities | $11.2 | $9.3
b. Agreement State oversight | $12.6 | $12.0
c. Scholarships and Fellowships | $18.9 | $18.9
d. Medical Isotope Production | $3.1 | $4.9
2. Activities not assessed under 10 CFR part 170 licensing and inspection fees or 10 CFR part 171 annual fees based on existing law or Commission policy:
a. Fee exemption for nonprofit educational institutions | $11.9 | $10.3
b. Costs not recovered from small entities under 10 CFR 71.16(c) | $8.4 | $8.8
c. Regulatory support to Agreement States | $17.9 | $18.5
d. Generic decommissioning/reclamation (not related to the power reactor and spent fuel storage fee classes) | $17.1 | $16.4
e. In Situ leach rulemaking and unregistered general licensees | $1.0 | $1.4
f. Potential Department of Defense remediation program MOU activities | 0.0 | 0.0
Total fee-relief activities | $102.1 | $100.5
Less 10 percent of the NRC's total FY budget (less non-fee items) | −$103.4 | −$99.5
Fee-Relief Adjustment to be Allocated to All Licensees' Annual Fees | −$1.3 | $1.0

Table IV shows how the NRC allocated the $4.9 million fee-relief assessment adjustment to each license fee class. As explained previously, the NRC allocated this fee-relief adjustment to each license fee class based on their percentage of the budget for their fee class compared to the NRC's total budget. This adjustment was added to the required annual fee recovery for each fee class.

Table IV also shows the allocation of the LLW surcharge activity. For FY 2015, the total budget allocated for LLW activity is $3.9 million. (Individual values may not sum to totals due to rounding.)

Table IV—Allocation of Fee-Relief Adjustment and LLW Surcharge, FY 2015
[Dollars in millions]
| LLW Surcharge: Percent | LLW Surcharge: $ | Fee-relief adjustment: Percent | Fee-relief adjustment: $ | Total: $
Operating Power Reactors | 32 | 1.2 | 86.1 | 0.8 | 2.1
Spent Fuel Storage/Reactor Decommissioning | 0 | 0 | 3.8 | 0.0 | 0.0
Research and Test Reactors | 0 | 0 | 0.3 | 0.0 | 0.0
Fuel Facilities | 54 | 2.1 | 4.9 | 0.0 | 2.1
Materials Users | 14 | 0.5 | 3.1 | 0.1 | 0.6
Transportation | 0 | 0 | 0.5 | 0.0 | 0.0
Rare Earth Facilities | 0 | 0 | 0.0 | 0.0 | 0.0
Uranium Recovery | 0 | 0 | 1.2 | 0.0 | 0.0
Total | 100 | 3.9 | 100 | 1.0 | 4.9

Revised Annual Fees

As previously stated, the NRC is required to establish rebaselined annual fees, which includes updating the number of NRC licensees in its fee calculation methodology. In the agency's FY 2006 final fee rule (71 FR 30721; May 30, 2006), the Commission determined that the agency should proceed with a presumption in favor of rebaselining when calculating annual fees each year. Rebaselining involves a detailed analysis of the NRC's budget, with the NRC allocating budgeted resources to fee classes and categories of licensees.

Therefore, in FY 2015, the NRC revises its annual fees in §§ 171.15 and 171.16 to recover approximately 90 percent of the NRC's FY 2015 budget authority, less non-fee amounts and the estimated amount to be recovered through 10 CFR part 170 fees. For FY 2015, the NRC's total fee recoverable budget, as mandated by law, is $895.5 million, a decrease of $35.2 million compared to FY 2014. After accounting for billing adjustments, the fee recoverable budget is further reduced to $888.7 million for FY 2015, a decrease of $28 million from FY 2014. The total estimated 10 CFR part 170 collections for this final rule total are $321.7 million, a decrease of $10.8 million from the FY 2014 fee rule, primarily within the power reactor and fuel facilities fee classes, while the spent fuel storage fee class has increased 10 CFR part 170 collections. The total amount to be recovered through annual fees from current licensees for this final rule is $567 million, a decrease of $17.2 million from the FY 2014 final rule. These decreases are later explained in detail within each fee class.

The FY 2015 budget was allocated to the appropriate fee class based on budgeted activities. Compared to FY 2014 annual fees, the FY 2015 rebaselined fees decrease for operating reactors, spent fuel storage and reactor decommissioning, and research and test reactors fee classes while annual fees increase for DOE transportation activities, fuel facilities fee classes, some materials users, and most uranium recovery licensees.

The factors affecting all annual fees include the distribution of budgeted costs to the different classes of licenses (based on the specific activities the NRC will perform in FY 2015), the estimated 10 CFR part 170 collections for the various classes of licenses, and allocation of the fee-relief surplus adjustment to all fee classes.

Table V shows the rebaselined fees for FY 2015 for a representative list of categories of licensees. The FY 2014 amounts are provided for comparison purposes. (Individual values may not sum to totals due to rounding.)

Table V—Rebaselined Annual Fees
Class/Category of licenses | FY 2014 Final annual fee | FY 2015 Final annual fee
Operating Power Reactors | $4,999,000 | $4,807,000
+ Spent Fuel Storage/Reactor Decommissioning | 224,000 | 223,000
Total, Combined Fee | 5,223,000 | 5,030,000
Spent Fuel Storage/Reactor Decommissioning | 224,000 | 223,000
Research and Test Reactors (Nonpower Reactors) | 84,500 | 83,500
High Enriched Uranium Fuel Facility | 7,175,000 | 8,473,000
Low Enriched Uranium Fuel Facility | 2,469,000 | 2,915,000
UF6 Conversion and Deconversion Facility | 1,466,000 | 1,731,000
Conventional Mills | 33,800 | 36,100
Typical Materials Users:
Radiographers (Category 3O) | 29,800 | 25,800
Well Loggers (Category 5A) | 13,600 | 14,400
Gauge Users (Category 3P) | 6,800 | 8,000
Broad Scope Medical (Category 7B) | 35,700 | 37,500

The work papers (ADAMS Accession No. ML15160A434) that support this final rule show in detail the allocation of the NRC's budgeted resources for each class of licenses and how the fees are calculated. The work papers are available as indicated in Section XV, “Availability of Documents,” of this document.

Paragraphs a. through h. of this section describes budgetary resources allocated to each class of licenses and the calculations of the rebaselined fees. Individual values in the tables presented in this section may not sum to totals due to rounding.

a. Fuel Facilities.

The FY 2015 budgeted costs to be recovered in the annual fees assessment to the fuel facility class of licenses (which includes licensees in fee categories 1.A.(1)(a), 1.A.(1)(b), 1.A.(2)(a), 1.A.(2)(b), 1.A.(2)(c), 1.E., and 2.A.(1) under § 171.16) are approximately $42.9 million. This value is based on the full cost of budgeted resources associated with all activities that support this fee class, which is reduced by estimated 10 CFR part 170 collections and adjusted for allocated generic transportation resources and fee-relief. In FY 2015, the LLW surcharge for fuel facilities is added to the allocated fee-relief adjustment (see Table IV, “Allocation of Fee-Relief Adjustment and LLW Surcharge, FY 2015,” in Section II, “Discussion,” of this document). The summary calculations used to derive this value are presented in Table VI for FY 2015, with FY 2014 values shown for comparison. (Individual values may not sum to totals due to rounding.)

Table VI—Annual Fee Summary Calculations for Fuel Facilities
[Dollars in millions]
Summary fee calculations | FY 2014 Final | FY 2015 Final
Total budgeted resources | $47.2 | $42.8
Less estimated 10 CFR part 170 receipts | −$16.7 | −$11.5
Net 10 CFR part 171 resources | $30.5 | $31.3
Allocated generic transportation | $0.6 | $0.8
Fee-relief adjustment/LLW surcharge | $1.1 | $2.1
Billing adjustments | −$0.6 | −$0.3
Reclassification of licensee current year fee billing received: | −$2.2 | 0.0
Total remaining required annual fee recovery | $29.5 | $33.9

In FY 2015, the fuel facilities budgetary resources decreased due to reduced construction activities and licensing amendments compared to FY 2014. Despite the decrease in budgeted resources, the fuel facilities annual fees in FY 2015 increase compared to FY 2014 due to reduced 10 CFR part 170 billings for operation reviews and inspections resulting from numerous delays at the Chicago Bridge and Iron AREVA MOX Services Mixed Oxide Fuel Fabrication Facility, the International Isotopes uranium de-conversion facility, the Global Laser Enrichment (GLE) uranium enrichment facility, and the AREVA Eagle Rock Uranium Enrichment facility. Annual fees also increased as a result of the termination of the certificate for United States Enrichment Corporation's Paducah, Kentucky facility. The NRC allocates the total remaining annual fee recovery amount to the individual fuel facility licensees, based on the effort/fee determination matrix developed for the FY 1999 final fee rule (64 FR 31447; June 10, 1999). In the matrix included in the publicly-available NRC work papers, licensees are grouped into categories according to their licensed activities (i.e., nuclear material enrichment, processing operations, and material form) and the level, scope, depth of coverage, and rigor of generic regulatory programmatic effort applicable to each category from a safety and safeguards perspective. This methodology can be applied to determine fees for new licensees, current licensees, licensees in unique license situations, and certificate holders.

This methodology is adaptable to changes in the number of licensees or certificate holders, licensed or certified material and/or activities, and total programmatic resources to be recovered through annual fees. When a license or certificate is modified, it may result in a change of category for a particular fuel facility licensee, as a result of the methodology used in the fuel facility effort/fee matrix. Consequently, this change may also have an effect on the fees assessed to other fuel facility licensees and certificate holders. For example, if a fuel facility licensee amends its license/certificate to reflect cessation of licensed activities (e.g., decommissioning or license termination), then that licensee will not be subject to 10 CFR part 171 costs applicable to the fee class, and the budgeted generic costs for the safety and/or safeguards components that continue to be associated with the license will have to be spread among the remaining fuel facility licensees/certificate holders.

The methodology is applied as follows. First, a fee category is assigned, based on the nuclear material possessed or used, and/or the activity or activities authorized by license or certificate. Although a licensee/certificate holder may elect not to fully use a license/certificate, the license/certificate is still used as the source for determining authorized nuclear material possession and use/activity. Second, the category and license/certificate information are used to determine where the licensee/certificate holder fits into the matrix. The matrix depicts the categorization of licensees/certificate holders by authorized material types and use/activities.

Each year, the NRC's fuel facility project managers and regulatory analysts determine the level of effort associated with regulating each of these facilities. This is done by assigning, for each fuel facility, separate effort factors for the safety and safeguards activities associated with each type of regulatory activity. The matrix includes 10 types of regulatory activities, including enrichment and scrap/waste-related activities (see the work papers for the complete list). The NRC then calculates the total for all activities per licensee benefit factors by each fee category.

The effort factors for the various fuel facility fee categories are summarized in Table VII. In this rulemaking, some of the effort factors changed from the FY 2015 proposed fee rule as a result of the decertification of the Paducah facility. The value of the effort factors shown, as well as the percent of the total effort factor for all fuel facilities, reflects the total regulatory effort for each fee category (not per facility). This results in the spreading of costs to other fee categories.

Table VII—Effort Factors for Fuel Facilities, FY 2015
Facility type (fee category) | Number of facilities | Effort factors (percent of total): Safety | Effort factors (percent of total): Safeguards
High-Enriched Uranium Fuel (1.A.(1)(a)) | 2 | 89 (44.3) | 97 (56.7)
Low-Enriched Uranium Fuel (1.A.(1)(b)) | 3 | 70 (34.8) | 26 (15.2)
Limited Operations (1.A.(2)(a)) | 0 | 0 (0.0) | 0 (0.0)
Gas Centrifuge Enrichment Demonstration (1.A.(2)(b)) | 1 | 3 (1.5) | 15 (8.8)
Hot Cell (1.A.(2)(c)) | 1 | 6 (3.0) | 3 (1.8)
Uranium Enrichment (1.E.) | 1 | 21 (10.4) | 23 (13.5)
UF6 Conversion and Deconversion (2.A.(1)) | 1 | 12 (6.0) | 7 (4.1)

For FY 2015, the total budgeted resources for safety activities are $17.2 million, excluding the fee-relief adjustment and the reclassification adjustment. This amount is allocated to each fee category based on its percent of the total regulatory effort for safety activities. For example, if the total effort factor for safety activities for all fuel facilities is 100, and the total effort factor for safety activities for a given fee category is 10, that fee category will be allocated 10 percent of the total budgeted resources for safety activities. Similarly, the budgeted resources amount of $14.6 million for safeguards activities is allocated to each fee category based on its percent of the total regulatory effort for safeguards activities. The fuel facility fee class' portion of the fee-relief/LLW adjustment, $2.1 million, is allocated to each fee category based on its percent of the total regulatory effort for both safety and safeguards activities. The annual fee per licensee is then calculated by dividing the total allocated budgeted resources for the fee category by the number of licensees in that fee category. The fee (rounded) for each facility is summarized in Table VIII.

Table VIII—Annual Fees for Fuel Facilities
Facility type (fee category) | FY 2015 Final annual fee
High-Enriched Uranium Fuel (1.A.(1)(a)) | $8,473,000
Low-Enriched Uranium Fuel (1.A.(1)(b)) | 2,915,000
Limited Operations (1.A(2)(a)) | 0
Gas Centrifuge Enrichment Demonstration (1.A.(2)(b)) | 1,640,000
Hot Cell (and others) (1.A.(2)(c)) | 820,000
Uranium Enrichment (1.E.) | 4,009,000
UF6 Conversion and Deconversion (2.A.(1)) | 1,731,000

b. Uranium Recovery Facilities.

The total FY 2015 budgeted costs to be recovered through annual fees assessed to the uranium recovery class (which includes licensees in fee categories 2.A.(2)(a), 2.A.(2)(b), 2.A.(2)(c), 2.A.(2)(d), 2.A.(2)(e), 2.A.(3), 2.A.(4), 2.A.(5), and 18.B. under § 171.16) are approximately $1.0 million. The derivation of this value is shown in Table IX, with FY 2014 values shown for comparison purposes.

Table IX—Annual Fee Summary Calculations
[Dollars in millions]
Summary fee calculations | FY 2014 Final | FY 2015 Final
Total budgeted resources | $10.9 | $11.3
Less estimated 10 CFR part 170 receipts | −$9.5 | −$10.1
Net 10 CFR part 171 resources | $1.3 | $1.2
Allocated generic transportation | N/A | N/A
Fee-relief adjustment | −$0.0 | −$0.0
Billing adjustments | −$0.1 | −$0.1
Total required annual fee recovery | $1.2 | $1.1

In comparison to FY 2014, the FY 2015 budgetary resources for uranium recovery licensees increased due, in part, to the additional resources necessary to conduct the environmental reviews for materials licenses applications for uranium recovery facilities (including tribal consultations in support of the National Historic Preservation Act Section 106 reviews). Specifically, the NRC staff has been developing process changes to facilitate the environmental reviews for uranium recovery applications.

Since FY 2002, the NRC has computed the annual fee for the uranium recovery fee class by allocating the total annual fee amount for this fee class between the DOE and the other licensees in this fee class. The NRC regulates DOE's Title I and Title II activities under the Uranium Mill Tailings Radiation Control Act (UMTRCA). The Congress established the two programs, Title I and Title II, under UMTRCA to protect the public and the environment from uranium milling. The UMTRCA Title I program is for remedial action at abandoned mill tailings sites where tailings resulted largely from production of uranium for the weapons program. The NRC also regulates DOE's UMTRCA Title II program, which is directed toward uranium mill sites licensed by the NRC or Agreement States in or after 1978.

In FY 2015, the annual fee assessed to DOE includes recovery of the costs specifically budgeted for the NRC's UMTRCA Title I and II activities, plus 10 percent of the remaining annual fee amount, including generic/other costs (plus 10 percent of the fee-relief/LLW adjustment), for the uranium recovery class. The NRC assesses the remaining 90 percent generic/other costs plus 90 percent of the fee-relief adjustment, to the other NRC licensees in the fee class that are subject to annual fees.

The costs to be recovered through annual fees assessed to the uranium recovery class are shown in Table X.

Table X—Costs Recovered Through Annual Fees; Uranium Recovery Fee Class
Summary of costs | FY 2015 Final annual fee
DOE Annual Fee Amount (UMTRCA Title I and Title II) General Licenses: | $622,898
UMTRCA Title I and Title II budgeted costs less 10 CFR part 170 receipts
10 percent of generic/other uranium recovery budgeted costs | 41,986
10 percent of uranium recovery fee-relief adjustment | 1,251
Total Annual Fee Amount for DOE (rounded) | 666,000
Annual Fee Amount for Other Uranium Recovery Licenses: | 377,874
90 percent of generic/other uranium recovery budgeted costs less the amounts specifically budgeted for Title I and Title II activities
90 percent of uranium recovery fee-relief adjustment | 11,255
Total Annual Fee Amount for Other Uranium Recovery Licenses | 389,129

The NRC will continue to use a matrix, which is included in the work papers, to determine the level of effort associated with conducting the generic regulatory actions for the different (non-DOE) licensees in this fee class. The weights derived in this matrix are used to allocate the approximately $377,874 annual fee amount to these licensees. The use of this uranium recovery annual fee matrix was established in the FY 1995 final fee rule (60 FR 32217; June 20, 1995). In this rulemaking, some of the matrix factors changed slightly from the FY 2015 proposed fee rule to accurately reflect the number of materials licensees. The matrix is described as follows.

First, the methodology identifies the categories of licenses included in this fee class (besides DOE). These categories are: Conventional uranium mills and heap leach facilities; uranium In Situ Recovery (ISR) and resin ISR facilities, and mill tailings disposal facilities, as defined in Section 11e.(2) of the AEA (11e.(2) disposal facilities); and uranium water treatment facilities.

Second, the matrix identifies the types of operating activities that support and benefit these licensees. The activities related to generic decommissioning/reclamation are not included in the matrix because they are included in the fee-relief activities. Therefore, they are not a factor in determining annual fees. The activities included in the matrix relate to operations, waste operations, and groundwater protection. The relative weight of each type of activity is then determined, based on the regulatory resources associated with each activity. The operations, waste operations, and groundwater protection activities have weights of 0, 5, and 10, respectively, in the matrix. These benefit factors are first multiplied by the relative weight assigned to each activity. The NRC then calculates the total for all activities per licensee benefit factors by each fee category. Therefore, these benefit factors reflect the relative regulatory benefit associated with each licensee and fee category.

Each year, the NRC determines the level of benefit to each licensee for generic uranium recovery program activities for each type of generic activity in the matrix. This is done by assigning, for each fee category, separate benefit factors for each type of regulatory activity in the matrix. The relative weight of each type of activity is then determined, based on the regulatory resources associated with each activity. These benefit factors are first multiplied by the relative weight assigned to each activity. The NRC then calculates total and per licensee benefit factors for each fee category.

Table XI displays the benefit factors per licensee and per fee category, for each of the non-DOE fee categories included in the uranium recovery fee class as follows:

Table XI—Benefit Factors for Uranium Recovery Licenses
Fee category | Number of licensees | Benefit factor per licensee | Total value | Benefit factor percent total
Conventional and Heap Leach mills (2.A.(2)(a)) | 1 | 150 | 150 | 9
Basic In Situ Recovery facilities (2.A.(2)(b)) | 6 | 190 | 1,140 | 71
Expanded In Situ Recovery facilities (2.A.(2)(c)) | 1 | 215 | 215 | 13
11e.(2) disposal incidental to existing tailings sites (2.A.(4)) | 1 | 85 | 85 | 5
Uranium water treatment (2.A.(5)) | 1 | 25 | 25 | 2
Total | 10 | 665 | 1,615 | 100

Applying these factors to the approximately $389,129 in budgeted costs to be recovered from non-DOE uranium recovery licensees results in the total annual fees for each fee category. The annual fee per licensee is calculated by dividing the total allocated budgeted resources for the fee category by the number of licensees in that fee category, as summarized in Table XII.

Table XII—Annual Fees for Uranium Recovery Licensees
(Other than DOE)
Facility type (fee category) | FY 2015 Final annual fee
Conventional and Heap Leach mills (2.A.(2)(a)) | $36,100
Basic In Situ Recovery facilities (2.A.(2)(b)) | 45,800
Expanded In Situ Recovery facilities (2.A.(2)(c)) | 51,800
11e.(2) disposal incidental to existing tailings sites (2.A.(4)) | 20,500
Uranium water treatment (2.A.(5)) | 6,000

c. Operating Power Reactors

The total budgeted costs to be recovered from the power reactor fee class in FY 2015 in the form of annual fees is $475.9 million, as shown in Table XIII. The FY 2014 values are shown for comparison. (Individual values may not sum to totals due to rounding.)

Table XIII—Annual Fee Summary Calculations for Operating Power Reactors
[Dollars in millions]
Summary fee calculations | FY 2014 Final | FY 2015 Final
Total budgeted resources | $799.3 | $762.1
Less estimated 10 CFR part 170 receipts | −$290.9 | −$284.1
Net 10 CFR part 171 resources | $508.4 | $478.0
Allocated generic transportation | $1.1 | $1.7
Fee-relief adjustment/LLW surcharge | $0.6 | $2.1
Billing adjustment | −$10.2 | −5.9
Total required annual fee recovery | $499.9 | $475.9

In comparison to FY 2014, the operating reactor budgetary resources decrease in FY 2015 to reflect the conclusion of Kewaunee, Crystal River 3, and San Onofre Nuclear Generating Station, Units 1 and 2, operating reactor oversight responsibilities. In FY 2015, the operating power reactor annual fee decreases as a result of reduced budgetary resources and are partially offset by a decrease in 10 CFR part 170 billings due to unexpected new reactor application suspensions and the shutdown of one power reactor, Vermont Yankee. The permanent shutdown of the Vermont Yankee reactor decreases the fleet of operating reactors, which subsequently increases the annual fees for the rest of the fleet.

The budgeted costs to be recovered through annual fees to power reactors are divided equally among the 99 power reactors licensed to operate, resulting in an FY 2015 annual fee of $4,807,000 per reactor. Additionally, each power reactor licensed to operate would be assessed the FY 2015 spent fuel storage/reactor decommissioning annual fee of $223,000. The total FY 2015 annual fee is $5,030,000 for each power reactor licensed to operate. The annual fees for power reactors are presented in § 171.15.

d. Spent Fuel Storage/Reactors in Decommissioning

For FY 2015, budgeted costs of $32.4 million for spent fuel storage/reactor decommissioning would be recovered through annual fees assessed to 10 CFR part 50 power reactors and to 10 CFR part 72 licensees who do not hold a 10 CFR part 50 license. Those reactor licensees that have ceased operations and have no fuel onsite would not be subject to these annual fees.

In comparison to FY 2014, the decreased annual fee is a result of a decrease in budgetary resources and increased estimated 10 CFR part 170 collections for inspections at Beaver Valley and Pilgrim Power Stations for FY 2015. Table XIV shows the calculation of this annual fee amount. The FY 2014 values are shown for comparison. (Individual values may not sum to totals due to rounding.)

Table XIV—Annual Fee Summary Calculations for the Spent Fuel Storage/Reactor in Decommissioning Fee Class
[Dollars in millions]
Summary fee calculations | FY 2014 Final | FY 2015 Final
Total budgeted resources | $32.7 | $32.4
Less estimated 10 CFR part 170 receipts | −$5.4 | −$5.9
Net 10 CFR part 171 resources | $27.3 | $26.5
Allocated generic transportation | $0.6 | $1.0
Fee-relief adjustment | $0.0 | −$0.0
Billing adjustments | −$0.4 | −$0.3
Total required annual fee recovery | $27.5 | $27.2

The required annual fee recovery amount is divided equally among 122 licensees, resulting in an FY 2015 annual fee of $223,000 per licensee.

e. Research and Test Reactors (Nonpower Reactors)

Approximately $330,000 in budgeted costs would be recovered through annual fees assessed to the research and test reactor class of licenses for FY 2015. Table XV summarizes the annual fee calculation for the research and test reactors for FY 2015. The FY 2014 values are shown for comparison. (Individual values may not sum to totals due to rounding.)

Table XV—Annual Fee Summary Calculations for Research and Test Reactors
[Dollars in millions]
Summary fee calculations | FY 2014 Final | FY 2015 Final
Total budgeted resources | $2.63 | $2.51
Less estimated 10 CFR part 170 receipts | −$2.28 | −$2.19
Net 10 CFR part 171 resources | $0.35 | $0.32
Allocated generic transportation | $0.03 | $0.03
Fee-relief adjustment | −$0.01 | −$0.00
Billing adjustments | −$0.03 | −$0.02
Total required annual fee recovery | $0.34 | $0.33

In FY 2015, the annual fees decrease for research and test reactors as result of a slight decline in budgetary resources. The required annual fee recovery amount is divided equally among the four research and test reactors subject to annual fees and results in an FY 2015 annual fee of $83,500 for each licensee.

f. Materials Users.

The NRC will recover $35.7 million through annual fees assessed to materials users licensed under 10 CFR parts 30, 40, and 70. Table XVI shows the calculation of the FY 2015 annual fee amount for materials users licensees. The FY 2014 values are shown for comparison. Note the following fee categories under § 171.16 are included in this fee class: 1.C., 1.D., 1.F., 2.B., 2.C. through 2.F., 3.A. through 3.S., 4.A. through 4.C., 5.A., 5.B., 6.A., 7.A. through 7.C., 8.A., 9.A. through 9.D., and 17. (Individual values may not sum to totals due to rounding.)

Table XVI—Annual Fee Summary Calculations for Materials Users
[Dollars in millions]
Summary Fee Calculations | FY 2014 Final | FY 2015 Final
Total budgeted resources | $32.8 | $34.1
Less estimated 10 CFR part 170 receipts | −$0.9 | −$1.0
Net 10 CFR part 171 resources | $31.9 | $33.1
Allocated generic transportation | $1.3 | $2.2
Fee-relief adjustment/LLW surcharge | $0.2 | $0.6
Billing adjustments | −$0.3 | −$0.2
Total required annual fee recovery | $33.1 | $35.7

To equitably and fairly allocate the $35.7 million in FY 2015 budgeted costs to be recovered in annual fees from the approximately 2,900 diverse materials users licensees, the NRC continues to base the annual fees for each fee category within this class on the 10 CFR part 170 application fees and estimated inspection costs for each fee category. Because the application fees and inspection costs are indicative of the complexity of the license, this approach continues to provide a proxy for allocating the generic and other regulatory costs to the diverse categories of licenses based on the NRC's cost to regulate each category. This fee calculation also considers the inspection frequency (priority), which is indicative of the safety risk and resulting regulatory costs associated with the categories of licenses.

The annual fee for these categories of materials users' licenses is developed as follows:

Annual fee = Constant × [Application Fee + (Average Inspection Cost/Inspection Priority)] + Inspection Multiplier × (Average Inspection Cost/Inspection Priority) + Unique Category Costs.

For FY 2015, the constant multiplier necessary to recover approximately $26 million in general costs (including allocated generic transportation costs) is 1.52. The average inspection cost is the average inspection hours for each fee category multiplied by the hourly rate of $268. The inspection priority is the interval between routine inspections, expressed in years. The inspection multiplier is the multiple necessary to recover approximately $8.9 million in inspection costs, and is 1.73 for FY 2015. The unique category costs are any special costs that the NRC has budgeted for a specific category of licenses. For FY 2015, approximately $235,000 in budgeted costs for the implementation of revised 10 CFR part 35, “Medical Use of Byproduct Material (unique costs),” has been allocated to holders of NRC human-use licenses.

The annual fee to be assessed to each licensee also includes a share of the fee-relief assessment of approximately $31,000 allocated to the materials users fee class (see Table IV, “Allocation of Fee-Relief Adjustment and LLW Surcharge, FY 2015,” in Section II, “Discussion,” of this document), and for certain categories of these licensees, a share of the approximately $542,700 surcharge costs allocated to the fee class. The annual fee for each fee category is shown in § 171.16(d).

g. Transportation

Table XVII shows the calculation of the FY 2015 generic transportation budgeted resources to be recovered through annual fees. In comparison to FY 2014, the total budgetary resources for generic transportation activities, including those to support DOE Certificate of Compliance (CoCs), increase in FY 2015 due to: (1) Rulemaking activities involving 10 CFR part 71 Compatibility with IAEA Transportation Standards and Improvements, (2) the increased activities from the development of the Continued Storage Rule and associated generic environmental impact statement combined, and (3) a significant decrease in transportation licensing work due to shifts towards storage licensing priorities. For FY 2015, the total amount of annual fees to be collected for generic transportation activities, including those to support DOE CoCs, is $7.4 million, due to the reasons mentioned.

The FY 2014 values are shown for comparison. (Individual values may not sum to totals due to rounding.)

TABLE XVII—Annual Fee Summary Calculations for Transportation
[Dollars in millions]
Summary Fee Calculations | FY 2014 Final | FY 2015 Final
Total Budgeted Resources | $8.0 | $10.0
Less Estimated 10 CFR Part 170 Receipts | −$3.1 | −$2.6
Net 10 CFR Part 171 Resources | $4.9 | $7.4

The NRC must approve any package used for shipping nuclear material before shipment. If the package meets NRC requirements, the NRC issues a Radioactive Material Package CoC to the organization requesting approval of a package. Organizations are authorized to ship radioactive material in a package approved for use under the general licensing provisions of 10 CFR part 71, “Packaging and Transportation of Radioactive Material.” The resources associated with generic transportation activities are distributed to the license fee classes based on the number of CoCs benefitting (used by) that fee class, as a proxy for the generic transportation resources expended for each fee class.

Generic transportation resources associated with fee-exempt entities are not included in this total. These costs are included in the appropriate fee-relief category (e.g., the fee-relief category for nonprofit educational institutions).

Consistent with the policy established in the NRC's FY 2006 final fee rule (71 FR 30721; May 30, 2006), the NRC recovers generic transportation costs unrelated to DOE as part of existing annual fees for license fee classes. The NRC continues to assess a separate annual fee under § 171.16, fee category 18.A., for DOE transportation activities. The amount of the allocated generic resources is calculated by multiplying the percentage of total CoCs used by each fee class (and DOE) by the total generic transportation resources to be recovered.

The distribution of these resources to the license fee classes and DOE is shown in Table XVIII. The distribution is adjusted to account for the licensees in each fee class that are fee-exempt. For example, if four CoCs benefit the entire research and test reactor class, but only 4 of 31 research and test reactors are subject to annual fees, the number of CoCs used to determine the proportion of generic transportation resources allocated to research and test reactor annual fees equals (4/31) × 4, or 0.5 CoCs.

Table XVIII—Distribution of Generic Transportation Resources, FY 2015
[Dollars in millions]
License fee class/DOE | Number of CoCs benefiting fee class or DOE | Percentage of total CoCs | Allocated generic transportation resources
Total | 90.4 | 100.0 | 7.46
DOE | 20.0 | 22.1 | 1.65
Operating Power Reactors | 21.0 | 23.2 | 1.73
Spent Fuel Storage/Reactor Decommissioning | 12.0 | 13.3 | 0.99
Research and Test Reactors | 0.4 | 0.4 | 0.03
Fuel Facilities | 10.0 | 11.1 | 0.83
Materials Users | 27.0 | 29.9 | 2.23

The NRC assesses an annual fee to DOE based on the 10 CFR part 71 CoCs it holds and does not allocate these DOE-related resources to other licensees' annual fees, because these resources specifically support DOE. Note that DOE's annual fee includes a reduction for the fee-relief surplus adjustment (see Table IV, “Allocation of Fee-Relief Adjustment and LLW Surcharge, FY 2015,” in Section II, “Discussion,” of this document), resulting in a total annual fee of $1,623,000 million for FY 2015. The overall increase is due to rulemaking activities involving 10 CFR part 71 Compatibility with IAEA Transportation Standards and Improvements combined with a significant decrease in transportation licensing work due to shifts towards storage licensing priorities. This rulemaking is essential for 10 CFR part 71 updates and compliance.

h. Small Entity Fees

For FY 2015, the NRC staff performed a biennial review using the fee methodology developed in FY 2009 that applies a fixed percentage of 39 percent to the prior 2-year weighted average of materials users' fees. This methodology disproportionately impacted NRC's small licensees fees by increasing fees by an approximate 43 percent on average compared to other materials licensees not eligible for small entity fee status whose fees increased by 38 percent or less for FY 2015; therefore, the NRC staff limited the increase to 21 percent based on historical applications of the fee methodology. Consequently, the change resulted in a fee of $3,400 for an upper-tier small entity and $700 for a lower-tier small entity for FY 2015. The NRC staff believes these fees are reasonable and provide relief to small entities while simultaneously recovering from those licensees some of the NRC's costs for activities that benefit the industry.

The NRC prematurely published a change to the small entity size standards in the FY 2015 proposed fee rule. Therefore, the NRC is not changing or amending the size standards in the final fee rule. Licensees should continue to refer to 10 CFR 2.810 to determine eligibility under NRC's size standards. The NRC will conduct the next biennial review in FY 2017.

Administrative Changes

The NRC also makes 11 administrative changes:

1. Increase Direct Hours per Full-Time Equivalent in the Hourly Rate Calculation. The hourly rate in 10 CFR part 170 is calculated by dividing the cost per direct FTE by the number of direct hours per direct FTE in a year. “Direct hours” are hours charged to mission direct activities in the Nuclear Reactor Safety Program and Nuclear Reactor Materials and Waste Program. The FY 2014 final fee rule used 1,375 hours per direct FTE in the hourly rate calculations. During the FY 2015 budget formulation process, the NRC staff reviewed and analyzed time and labor data from FY 2010 through FY 2012 to determine whether it should revise the direct hours per FTE. Between FY 2010 and FY 2012, the total direct hours charged by direct employees increased. The increase in direct hours was apparent in all mission business lines. To reflect this increase in productivity as demonstrated by the time and labor data, the staff determined that the number of direct hours per FTE should increase to 1,420 hours for FY 2015. The staff used 1,420 hours in the FY 2015 budget formulation cycle.

2. Adds New Definition for “Overhead and General and Administrative Costs” under 10 CFR 170.3, “Definitions.” The NRC adds a new definition to describe overhead and general and administrative costs that are included in full cost charges relating to hours charged by resident inspectors and project managers to licensees. The identical definition is added under 10 CFR 171.5, “Definitions.”

3. Amends Definition for “Utilization Facility” under 10 CFR 170.3, “Definitions.” The NRC amends the definition for “utilization facility” to reflect the definition contained in the direct final rule, “Definition of a Utilization Facility,” published October 17, 2014 (79 FR 62329), and effective December 31, 2014. The amended definition would allow the NRC to add SHINE Medical Technologies, Inc.'s, proposed accelerator-driven subcritical operating assemblies to the NRC's definition of a “utilization facility.”

4. Revises the Assessment of Administrative Time for Project Managers and Resident Inspectors. The NRC staff has examined the charging of administrative allocation time for project managers and resident inspectors under 10 CFR part 170. The current practice evenly distributes overhead time charges among the sites assigned to the individual. The NRC staff believes this method of distribution does not consider that some licensees generate more direct work than others. The NRC, therefore, will allocate administrative allocation costs to each licensee based on direct time to each docket. This method ensures that a licensee's administrative allocation costs are proportional to the regulatory services rendered by the NRC. This method aligns with the NRC's longstanding fee policy that fees assessed to licensees should, to the maximum extent practicable, reflect the actual costs of NRC regulatory services, and does not penalize licensees who require fewer regulatory services.

5. Adds Fee Subcategories to 10 CFR 170.31 to Reflect a License with Multiple Sites. The NRC adds fee subcategories to 3.L. licenses (broad scope) under 10 CFR 170.31 to assess additional fees to licensees such as the United States Department of Agriculture and the Department of the Army, in order to accurately reflect the cost of services provided by the NRC. The staff spends a disproportionate amount of time on these licensees as compared to other licensees in the same fee category. These two broad scope licenses also have a considerable number of sites throughout the country and operate in a manner similar to master materials licenses under fee category 17. In FY 2014, the staff compared the work efforts expended by the NRC for master materials licenses with multiple sites to NRC work efforts for broad scope licenses with multiple sites. The staff concluded that NRC work efforts for multi-site broad scope licensees are similar to work efforts for master materials licensees. Therefore, consistent with NRC policy that fees assessed to licensees accurately reflect the cost of services provided, the NRC revises its fee categories to consider the number of sites a broad scope licensee has in establishing fees. An identical change is made to 10 CFR 171.16, “Annual Fees: Materials Licensees, Holders of Certificates of Compliance, Holders of Sealed Source and Device Registrations, Holders of Quality Assurance Program Approvals, and Government Agencies Licensed by the NRC.”

6. Amends 10 CFR 170.31, Footnote 6, to Avoid Duplicate Billing. The NRC amends footnote 6 to 10 CFR 170.31, “Schedule of Fees for Materials Licenses and Other Regulatory Services, Including Inspections, and Import and Export Licenses,” to avoid duplicate billing for fuel cycle facility licensees. The NRC currently charges a single annual fee to fuel cycle facility licensees for major activities. These licensees are not charged additional annual fees for ancillary activities. An identical change is made under 10 CFR 171.16, “Annual Fees: Materials Licensees, Holders of Certificates of Compliance, Holders of Sealed Source and Device Registrations, Holders of Quality Assurance Program Approvals, and Government Agencies Licensed by the NRC.”

7. Modifies Definition for “Overhead and General and Administrative Costs” under 10 CFR 171.5, “Definitions.” The NRC modifies the definition for “Overhead and General and Administrative Costs” to reflect the FY 2008 merger of the Advisory Committee on Nuclear Waste with the Advisory Committee on Reactor Safeguards.

8. Revises Fees to Reflect Biennial Review of Fees. To comply with the Chief Financial Officers Act of 1990, the NRC evaluates, on a biennial basis, the historical professional staff hours used to process a new license application. The NRC also evaluates the inspection time by reviewing hours spent by NRC staff on those materials users' fee categories that are subject to flat application fees. This review also includes new license and amendment applications for import and export licenses. Changes resulting from this biennial review impact 10 CFR part 170 flat fees for the small materials users and import and export licensees.

Two program offices, the Office of Nuclear Material Safety and Safeguards (NMSS) and the Office of International Programs (OIP), have completed their biennial review to the CFO regarding the FY 2015 fees. The NMSS recommended changes to the professional staff hours for most of the small materials users. The OIP also recommended changes to the hours for some import and export license fee categories.

Cumulatively, the FY 2015 biennial review resulted in increased professional staff hours within 11 fee categories and decreased professional staff hours within 11 fee categories. The changes in the number of hours and the hourly rate are components that will be used to determine the 10 CFR part 170 fees for the materials user's licenses as well as import and export applications.

9. Modifies Small Entity Fees. In accordance with NRC policy, the staff conducted a biennial review of small entity fees to determine if the fees should be changed. The small entity fees primarily impact the NRC's small materials licensees. In FY 2015, the staff performed a biennial review using the fee methodology developed in FY 2009 that applies a fixed percentage of 39 percent to the prior 2-year weighted average of materials users' fees. As a result, the upper tier small entity fee increased from $2,800 to $4,000 and the lower-tier fee increased from $600 to $900. This constitutes a 43-percent and 50-percent increase, respectively. Implementing this increase would have a disproportionate impact upon the NRC's small licensees compared to other licensees. Therefore, the NRC staff revised the increase to 21 percent for the upper-tier fee. The 21-percent increase was applied based on historical trends in the small entity fee and has been used in previous biennial reviews. The NRC staff amends the upper-tier small entity fee to $3,400 and amends the lower-tier small entity fee to $700 for FY 2015. The staff believes these fees are reasonable and provide relief to small entities while at the same time recovering from those licensees some of the NRC's costs for activities that benefit them.

10. Adds Fee Subcategories to 10 CFR 171.16 to Reflect a License with Multiple Sites. The NRC adds fee subcategories to 3.L. licenses (broad scope) under 10 CFR 171.16 to assess additional fees to licensees such as the United States Department of Agriculture and the Department of the Army, in order to accurately reflect the cost of services provided by the NRC. The staff spends a disproportionate amount of time on these licensees as compared to other licensees in the same fee category. These two broad scope licenses also have a considerable number of sites throughout the country and operate in a manner similar to master materials licenses under fee category 17. In FY 2014, the staff compared the work efforts expended by the NRC for master materials licenses with multiple sites to NRC work efforts for broad scope licenses with multiple sites. The staff concluded that NRC work efforts for multi-site broad scope licensees are similar to work efforts for master materials licensees. Therefore, consistent with NRC policy that fees assessed to licensees accurately reflect the cost of services provided, the NRC modifies its fee categories to consider the number of sites a broad scope licensee has in establishing fees.

11. Amends 10 CFR 171.16, Footnote 16, to Avoid Duplicate Billing. The NRC modifies the footnote description under 10 CFR 171.16, “Annual Fees: Materials Licensees, Holders of Certificates of Compliance, Holders of Sealed Source and Device Registrations, Holders of Quality Assurance Program Approvals, and Government Agencies Licensed by the NRC,” to avoid duplicate billing for fuel cycle facility licensees. The NRC's current policy charges a single, large annual fee to fuel cycle facility licensees for major activities. These licensees are not charged additional annual fees for ancillary activities.

FY 2015 Billing

The FY 2015 fee rule is a major rule as defined by the Congressional Review Act of 1996 (5 U.S.C. 801-808). Therefore, the NRC's fee schedules for FY 2015 will become effective 60 days after publication of the final rule in the Federal Register. Upon publication of the final rule, the NRC will send an invoice for the amount of the annual fees to reactor licensees, 10 CFR part 72 licensees, major fuel cycle facilities, and other licensees with annual fees of $100,000 or more. For these licensees, payment is due 30 days after the effective date of the FY 2015 final rule. Because these licensees are billed quarterly, the payment amount due is the total FY 2015 annual fee less payments made in the first three quarters of the fiscal year.

Materials licensees with annual fees of less than $100,000 are billed annually. Those materials licensees whose license anniversary date during FY 2015 falls before the effective date of the FY 2015 final rule will be billed for the annual fee during the anniversary month of the license at the FY 2014 annual fee rate. Those materials licensees whose license anniversary date falls on or after the effective date of the FY 2015 final rule will be billed for the annual fee at the FY 2015 annual fee rate during the anniversary month of the license, and payment will be due on the date of the invoice.

III. Opportunities for Public Participation

The NRC published the FY 2015 proposed fee rule in the Federal Register on March 23, 2015 (80 FR 15476), for a 30-day public comment period. The rule proposed to amend the licensing, inspection, and annual fees charged to the NRC's applicants and licensees in order to implement OBRA-90, as amended, which requires the NRC to recover approximately 90 percent of its budget authority in FY 2015 through fees (not including amounts appropriated for WIR, the NWF, generic homeland security activities, and IG services for the DNFSB.) These fees represent the cost of the NRC's services provided to applicants and licensees. The public comment period for the proposed rule closed on April 22, 2015.

The NRC also held a public meeting on April 20, 2015, to provide more transparency regarding fees in relation to the budget process and fulfill its commitment to external stakeholders to address NRC program processes and inefficiencies mentioned in the comments submitted for the FY 2014 proposed fee rule. The first session of the public meeting addressed the FY 2015 budget for the following program areas: Operating reactors, new reactors, fuel facilities, decommissioning, low-level waste, and mission support. The second session of the public meeting addressed the NRC fee process in relation to the budget laws that govern fees, the calculation of fees, FY 2015 proposed fee rule highlights including improvements, and next steps regarding the final rule. Additionally, the second session addressed the fee billing process including the charging of staff hours, validation of charges, preparation of invoices, and allocation of administrative time for program managers and resident inspectors. During the public meeting, the NRC received comments on the FY 2015 proposed fee rule. These comments are detailed in the transcription of the public meeting (ADAMS Accession No. ML15153A028). All of these comments except one are identical to comments later received as comment submissions for the FY 2015 proposed fee rule. The NRC responds to the one additional comment raised in the public meeting, as well as all other comment submissions, in Section IV, Public Comment Analysis, of this document.

IV. Public Comment Analysis

A. Overview of Public Comments

The NRC received 11 written comment submissions for the proposed rule. A comment submission for the purpose of this rule is defined as a communication or document submitted to the NRC by an individual or entity, with one or more distinct comments addressing a subject or an issue. A comment, on the other hand, refers to a statement made in the submission addressing a subject or issue. Nine comment submissions were received after the 30-day comment period closed; the NRC has addressed all nine late-filed comment submissions as part of this final rule.

The primary concern for the majority of the commenters is that the FY 2015 proposed fee rule was published late in the fiscal year and that the work papers lacked adequate justification to substantiate a change in fees, thereby denying the public an opportunity to submit meaningful commentary for consideration in the FY 2015 final fee rule. The commenters are listed in Table XIX, and are classified as follows: One government agency (DOE); two members of the uranium industry (Kennecott Uranium Company and Wyoming Mining Association (WMA)); one materials licensee (Rendezvous Engineering, P.C.); one rare earth applicant (Rare Element Resources); and six members of the nuclear industry (Southern Nuclear Operating Company (SNC), Duke Energy (Duke), Exelon Generation, LLC (Exelon), Nuclear Energy Institute (NEI), Tennessee Valley Authority (TVA), and AREVA, Inc. (AREVA)).

Table XIX—FY 2015 Proposed Fee Rule Commenter Submissions
Commenter | Affiliation | ADAMS Accession No. | Acronym
Thomas C. Pauling | Department of Energy | ML15112A215 (#1) | DOE
Anthony R. Pietrangelo | Nuclear Energy Institute | ML15113A307 (#2) | NEI
Jonathan Downing | Wyoming Mining Association | ML15113B224 (#3) | WMA
Bryan C. Hanson | Exelon Generation | ML15113B230 (#4) | Exelon
C.R. Pierce | Southern Nuclear Operating Company | ML15117A174 (#5) | SNC
M. Christopher Nolan | Duke Energy | ML15117A324 (#6) | Duke
Gayle Elliott | AREVA, Inc | ML15119A447 (#7) | AREVA
Matthew F. Ostdiek, P.E | Rendezvous Engineering, P.C | ML15119A453 (#8) | N/A
Oscar Paulson | Kennecott Uranium Company | ML15119A504 (#9) | N/A
Jaye T. Pickarts | Rare Element Resources | ML15127A144 (#10) | N/A
J.W. Shea | Tennessee Valley Authority | ML15131A477 (#11) | TVA

Information about obtaining the complete text of the comment submissions is available in Section XV, “Availability of Documents,” of this document.

Public Comments and Overall NRC Responses

The NRC has carefully considered the public comments received. The comments have been organized by topic followed by the NRC response.

A. Inadequate Explanation and Transparency

1. Uranium Recovery

Comment: Neither the FY 2015 proposed fee rule nor the work papers explain the rationale for recovery costs associated with generic and other uranium program activities that are assessed to DOE and other uranium recovery licensees. (DOE)

Response: The NRC described the overall methodology for determining fees for uranium recovery facilities, including DOE, in the 2002 fee rule (67 FR 42612; June 24, 2002). The NRC recovers fees from DOE through both user fees charged under 10 CFR part 170 and annual fees charged under 10 CFR part 171. The user fees cover specific UMTRCA oversight activities, while the 10 CFR part 171 fees cover generic work related to UMTRCA and other uranium recovery activities. As shown in the work papers, the NRC calculated the total amount of budgeted resources for UMTRCA activities related to DOE sites in the FY 2015 appropriation by computing the cost of staff hours budgeted to conduct the work (in terms of FTE) and the budgeted contract costs. The total amount of budgeted resources was then reduced by the amount expected to be recovered by direct fees for site-specific UMTRCA activities. The NRC produced this estimate of direct fees by analyzing billing data and the actual contractual work charged to DOE for the previous four quarters. The estimate, therefore, reflects any recent reductions in NRC oversight activities. The remainder of the UMTRCA budgeted amount related to DOE sites was assessed to DOE for generic activities. In addition to those generic costs, DOE was assessed for 10 percent of the overall generic costs attributable to the uranium recovery program. The remaining 90 percent of the overall generic costs was assessed to other members of the uranium recovery class.

The NRC performs several types of activities in its oversight of UMTRCA sites that have been transferred to DOE for long-term surveillance and maintenance. The NRC staff reviews the reports generated by DOE, including routine ground water monitoring reports, annual site remediation performance reports, annual inspection reports and other technical reports generated by DOE. The NRC staff also reviews and provides comments on non-routine reports such as the reports developed by DOE concerning the Many Devils Wash at the Shiprock site and the Phytoremediation Pilot Study at the Monument Valley site. In addition, if DOE proposes to revise a Ground Water Corrective Action Plan or Remediation Plan at a site, the NRC staff reviews and (if appropriate) concurs on the revised plan. The NRC staff also performs Observational Site Visits at UMTRCA sites to observe the DOE, and DOE contractors, performing the annual inspections of the UMTRCA sites required by the site Long-Term Surveillance Plan. Other significant staff actions include participating in the activities related to the development and implementation of the 5-year plan to address uranium contamination on the Navajo Nation. No change was made to the final rule in response to this comment.

Comment: The FY 2015 proposed fee rule lacks adequate justification regarding the 20-percent increase in fees for uranium recovery licenses. The justification that the NRC provides regarding the Section 106 Tribal Consultation process as one of the factors triggering the fee increase for uranium recovery licensees is not substantiated since this process should be streamlined and not used as justification for higher annual fees. (WMA, Kennecott Uranium Recovery)

Response: Regarding the 20-percent increase in annual fees, the FY 2015 annual fee recoverable amount was higher for all other uranium recovery licensees for primarily two reasons. First, under the NRC's established fee methodology, once the NRC determines how much the UMTRCA program will need to pay in annual fees, then the remainder of the NRC's budgetary authority must be recouped through the remaining uranium recovery licensees. The reduced budgetary resources for the UMTRCA program, therefore, contributed to this year's fee increase for the other uranium recovery licensees. Second, there are increased budgetary resources in FY 2015 to support contested uranium recovery hearings before the Atomic Safety and Licensing Board; the work on these contested hearings must be recouped through annual fees.

Additionally, the National Historic Preservation Act Section 106 consultation process associated with uranium recovery licensing actions has grown significantly over the past several years. This growth can be attributed to two main factors: (1) The siting of these projects in areas that are known to be the aboriginal homelands of a large number of Federally-recognized Native American tribes and tribes at or near sites that are considered sacred by these tribes (e.g., the Pumpkin Buttes, the Missouri Buttes, Devils Tower, and the Black Hills); and (2) the increased interest from tribes to participate as consulting parties in the Section 106 process for uranium recovery licensing actions. No change was made to the final rule in response to this comment.

Comment: The proposed rule and work papers do not reflect the resources that have been authorized by the Further Continuing Appropriations Act of 2015, which became law more than 3 months before the publication of this rulemaking. Instead, the proposed rule and work papers are based on the earlier President's Budget, which was $44.2 million greater than the appropriated amount. Due to this course of action, it is impossible to determine whether any of the resource allocations in the work papers are accurate. The proposed rule indicates that the final rule will make appropriate estimated adjustments without allowing the public any meaningful opportunity to understand the actual calculations or comment on this adjustment. (Exelon)

Response: In its proposed rule, the NRC provided estimated final FY 2015 calculations based on the anticipated impacts as a result of the FY 2015 appropriation. To meet the requirements of OBRA-90 that NRC collect approximately 90 percent of its appropriation by the end of the fiscal year and Administrative Procedure Act requirements concerning opportunity for public comment, the NRC published the proposed fee rule, which included estimated FY 2015 final fees based on the most accurate data available at the time of publication. No change was made to the final rule in response to this comment.

2. Operating Reactor Fees

Comment: Regarding annual fees, the proposed fee rule and work papers do not provide sufficient detail on how the 10 CFR parts 170 and 171 operating reactor fee estimates were calculated, rendering the proposed fee rule arbitrary and capricious. (Exelon)

Response: The NRC disagrees with the comment that the work papers contain insufficient detail with respect to how the 10 CFR parts 170 and 171 operating reactor fee estimates were calculated. Consistent with prior years, license fees are based on the NRC's budget formulation structure hierarchy of business lines, product lines, and products. The NRC provides those business lines, product lines, and products in its work papers. Detailed information below the product level (e.g., cost centers) is determined when the budget is executed. The work papers do not distinguish by specific budget line items which fees are recovered through user and annual fees because it is impractical for the NRC to determine in advance the precise percent of a given business line that will be recovered through 10 CFR part 170 user fees versus 10 CFR part 171 annual fees. No change was made to the final rule in response to this comment.

Comment: Neither the proposed rule nor the work papers provide any information showing the specific costs that are being recovered through annual fees. The work papers merely list all items comprising the entire NRC-budgeted resources for new reactors, operating reactors, and unexplained materials licensing activities and derive the annual fee by subtracting the portion of estimated 10 CFR part 170 collections attributed to entities paying user fees ($288.5 million). As a consequence, it is impossible to determine which of the specific line items are being recovered through user fees and which are being recovered under annual fees. The descriptions of the line items are very vague, preventing one from determining whether they are generic, and potentially appropriate for recovery under 10 CFR part 171 or attributable to a service provided to an identifiable beneficiary and, therefore, appropriate for recovery less than 10 CFR part 170. (Exelon)

Response: The NRC disagrees with the comment that the work papers contain insufficient detail with respect to which specific line items are being recovered through user fees, and which are being recovered through annual fees. Consistent with prior years, license fees are based on the NRC's budget formulation structure hierarchy of business lines, product lines, and products. The commenter is correct that the work papers do not distinguish these activities on the basis of whether these line items will be recovered through user or annual fees. But, that is because it would prove unduly burdensome for the NRC to perform this type of calculation for every business line, product line, and product in its budget. No change was made to the final rule in response to this comment.

Comment: The proposed rule and the work papers do not state how the estimated $324.3 million in 10 CFR part 170 costs are calculated for licensees. (Exelon)

Response: The NRC estimates the amount of 10 CFR part 170 fees based on established fee methodology guidelines (42 FR 22149; May 2, 1977), which specified that the NRC has the authority to recover the full cost of providing services to identifiable beneficiaries. As in previous years, the NRC applied longstanding principles to calculate the 10 CFR part 170 estimates based on the analysis of financial data. The data analyzed to devise the 10 CFR part 170 estimate included: (1) Four quarters of the most recent billing data (hourly rate invoice data); (2) actual contractual work charged (prior period data) to develop contract work estimates; and (3) the number of FTE hours charged, multiplied by the NRC professional hourly rate. These factors, along with workload projections, are used by the NRC to determine the 10 CFR part 170 estimated charges. Because the fee calculation worksheets used to develop the 10 CFR part 170 estimates involve thousands of calculations, it would be impractical for the NRC to provide details on every calculation, let alone explanations for every calculation such that each individual calculation became accessible and understandable to members of the public. No change was made to the final rule in response to this comment.

Comment: The work papers allocate to operating reactors over $7 million for spent fuel storage and transportation (SFST). As there is no meaningful description, one cannot determine whether the allocated costs are attributable solely to the Waste Confidence rulemaking or include other activities as well. (Exelon)

Response: The SFST business line activities include efforts to maintain and enhance its technical capabilities and understanding of the potential behavior of different geologic environments and engineered barrier systems for disposal of spent fuel and high-level waste, and monitoring national-level developments stemming from the report of the Blue Ribbon Commission on America's Nuclear Future and DOE's response to that report. Beginning in FY 2011, the NRC began budgeting for interim measures for the disposal of spent nuclear fuel. At that time, the NRC determined that it was appropriate to include these SFST resources in the power reactors fee class because power reactors ultimately benefit from disposal of spent nuclear fuel. These activities are in addition to the Waste Confidence (now Continued Storage) rulemaking activities. No change was made to the final rule in response to this comment.

Comment: The $7 million is in addition to the $28.9 million for spent fuel storage and decommissioning activities recovered through an annual fee on power reactors and 10 CFR part 72 licensees that do not hold a 10 CFR part 50 license. The NRC should inform the operating reactors whether the SFST costs assessed to operating reactors includes activities pertaining to spent fuel disposal activities listed in the FY 2014 CBJ. These costs should be counted separately or be an offset from the carry-over appropriation relating to the review of Yucca Mountain license application or recovered through user fees assessed to DOE or the NWF. (Exelon)

Response: The Waste Confidence (Continued Storage) rulemaking was completed in FY 2014. A small portion of the operating reactors' fees include SFST business line activities to maintain and enhance the NRC's technical capabilities and understanding of the potential behavior of different geologic environments and engineered barrier systems for disposal of spent fuel and high-level waste, and monitoring national-level developments stemming from the report of the Blue Ribbon Commission on America's Nuclear Future and DOE's response to that report. Beginning in FY 2011, the NRC began budgeting for interim measures for the disposal of spent nuclear fuel. At that time, the NRC determined that it was appropriate to include these SFST resources in the power reactors fee class because power reactors ultimately benefit from disposal of spent nuclear fuel. Further, it continues to be neither feasible nor appropriate for the NRC to parse out fees for activities that might be attributable to DOE's contractual obligations with respect to spent fuel versus those fees that would have been borne by licensees even if DOE had performed under the Standard Contract. Finally, with respect to offsetting fees from the carryover appropriations relating to the review of the Yucca Mountain construction authorization application or recovering costs through user fees assessed to the NWF, the NRC disagrees with the comment. Funds appropriated from the NWF may only be used for activities prescribed in section 302(d) of the Nuclear Waste Policy Act, which includes licensing activities associated with the Yucca Mountain high-level waste repository. That section covers neither the NRC's work on interim strategies for disposal of high-level waste, nor monitoring national-level developments stemming from the report of the Blue Ribbon Commission. Therefore, these activities are not chargeable to NWF appropriations. The NRC's NWF carryover funding is not included in the “fee relief items” or any part of the FY 2015 budget that is to be recovered by fees. No change was made to the final rule in response to this comment.

Comment: The NRC work papers imply that up to $1 million/reactor (20 percent) of the 10 CFR part 171 fees could be supporting NRC work on new and advanced reactors. The NRC should justify in a transparent manner how much of the annual fees support this new reactor business line, and how this portion of the annual fee directly supports operating plant regulatory activities. (SNC)

Response: The NRC does not compute new reactors costs separately when it determines the operating reactor annual fee. In other words, the NRC does not break the annual fee for operating reactors into separate, constituent parts in such a way that it can extract new reactor costs from operating reactor costs. This is because these costs are all intertwined within the operating reactor annual fee calculations. The fee calculation for the operating reactor fee class is derived from a methodology that includes analyzing the NRC's budget structure, and then making multiple adjustments to account for fee relief, generic transportations cost, estimated 10 CFR part 170 collections, etc. It is not, therefore, possible to simply analyze the budgeted business line for new reactors, and then extrapolate from there. No change was made to the final rule in response to this comment.

3. Rare Earth Facilities

Comment: The NRC should reevaluate the proposed annual fee for rare earth facilities to assure consistency with the NRC's statutory obligation to “fairly and equitably” allocate annual fees among licensees in a manner that has a reasonable relationship to the cost of providing regulatory services. The agency should explain in detail the basis for the proposed rare earth facilities fee in Table XVI in comparison to uranium recovery and other rare earth facilities fees. The rare earth facilities' proposed annual fee amount of $83,800 is more than double the conventional uranium mill facilities' proposed annual fee ($40,700) and significantly larger than the fees associated with in situ uranium recovery facilities ($51,500 and $58,300). In addition, the annual fee charged by the California Radiologic Health Branch for the Mountain Pass rare earth facility is capped at $29,418—approximately one-third of the NRC's proposed annual fee. (Rare Element Resources)

Response: The NRC agrees with this comment. As mentioned previously, the proposed FY 2015 fee rule established an annual fee for rare earth facilities. Upon further analysis, however, the NRC determined that all the budgeted resources for the rare earth facility fee class will be collected through 10 CFR part 170 fees this fiscal year. Therefore, in this final rule, the NRC omitted the annual fee for rare earth facilities in response to this comment.

B. Fairness of Fees

Comment: The proposed fee rule fails to subtract from the NRC budget the cost of activities that are covered by appropriations and carry-over appropriations from the NWF. There is no reason not to treat a carry-over appropriation as an appropriation for the fiscal year, because that appropriation remains available. But even if the NRC could not deduct the carry-over appropriation as a non-fee item, it would be inappropriate to charge the costs of the Yucca Mountain application to reactors as an annual fee, because these costs are direct services to an applicant (DOE), not generic costs. (Exelon)

Response: The NRC disagrees with the comment. The NRC received no new NWF appropriations in FY 2015. The NRC's FY 2015 activities related to review of the Yucca Mountain high-level waste repository application are being charged to the carryover balance of the NRC's NWF appropriations from prior years and will not be billed to licensees. OBRA-90 specifies that the NRC must deduct from the annual charges collected from all licensees any “amounts appropriated to the Commission from the Nuclear Waste Fund for the fiscal year.” 42 U.S.C. 2214(c)(2)(A)(ii) (emphasis added). In FY 2015, the NRC did not receive any new appropriations from the NWF. Therefore, there was no amount to subtract from the budget in calculating FY 2015 annual fees; all the carryover money that the NRC is using in FY 2015 was already deducted during the years in which it was appropriated. No change was made to the final rule in response to this comment.

Comment: The NRC should recover its generic new reactor costs through a more focused class of licensees. Specifically, NRC should recover its generic new reactor costs by creating a new fee class consisting of the holders of design certifications and design approvals, licensees that hold or have active applications for combined licenses, holders of active construction permits, and holders of any other NRC approvals allowing or pertaining to new plant activities. (Exelon)

Response: Initially, to the extent that the NRC's new reactor safety work directly benefits a licensee or applicant, the NRC assesses 10 CFR part 170 user fees to that licensee or applicant. As a result, existing operating reactor licensees are not paying any fees for new reactor work that directly benefits an entity engaged in new reactor activities. As for the portion of the new reactor work that is not collected through 10 CFR part 170 user fees, OBRA-90, as amended, requires that the NRC allocate those costs of this work fairly and equitably. Because the NRC's generic new reactor work yields benefits for existing operating reactor licensees, the NRC's current system of allocating all operating reactor costs to existing licensees satisfies OBRA-90's requirements.

Implementing a new fee class would be unduly burdensome, costly, and generally unworkable for two reasons. First, although generic new reactor activities may preferentially benefit new reactor vendors or licensees, there are many activities that appear to be focused on new reactors but ultimately have a direct benefit to operating units. To illustrate, consider the rulemaking effort to change the financial qualification standards for merchant plants. Although this rulemaking was initially focused on new reactor applicants, the Commission, in approving the rulemaking, expanded its scope to include license transfers, which provides a direct and appreciable benefit to existing operating reactors. Similarly, the expertise developed in the areas of seismic and flooding analysis was developed to address new reactor applicants. Now, however, that expertise is being brought to bear on seismic and flooding reevaluations being done in response to the Fukushima event.

Contrary to Exelon's comment, these are not “indirect” benefits to existing reactors, but rather concrete cases where work that, on its face, was geared towards new reactor activities yielded valuable and tangible benefits for the existing fleet, and therefore was appropriately billed to existing reactors. To devise methods to separate the NRC's generic new reactor costs from generic operating reactor costs, and then implement oversight to ensure the costs were correctly allocated, would require appreciable and recurring expenses that would be billed to all licensees. Further, such a process, which would have to be performed on a year-to-year basis, would be unworkable in any practical sense given the fluid nature of the NRC's generic regulatory work vis-à-vis power reactors.

Second, creating a new fee class would also prove impracticable because entities holding licenses for currently operating reactors may also be, either now or in the future, applicants for new nuclear power plant licenses. Given the evolving nature of the new reactor landscape, there is no practicable or reliable method to determine which existing NRC licensees will develop an interest in future reactor activities. Exelon's comment argues that the NRC should merely identify those entities that have pending regulatory approvals pertaining to new plant activities. But the existing marketplace is more fluid than Exelon's comment suggests, and having a stable and predictable regulatory infrastructure benefits more entities than just those currently seeking pending regulatory approvals because it promotes business planning. Exelon itself was engaged in new reactor activities from 2003-2012 (and, therefore, directly benefitted from all of the NRC's generic new reactor work). It is plausible that an entity previously involved in new reactor activities could re-engage in those activities at some time in the future.

Ultimately, identification of fee classes is a matter of line-drawing. By virtue of being a generic activity without a specific, concrete beneficiary, activities that fall in the 10 CFR part 171 annual fee category could be theoretically parsed into an almost infinite amount of fee classes. For example, if the NRC were to base fees on distinctions such as whether generic work benefited boiling water reactors versus pressurized water reactors or coastal versus inland reactors, the exercise likely would result in distinctions that are both artificial and unduly burdensome from an administrative and recordkeeping standpoint. The NRC's decision to draw the fee class line in such a way that encompasses generic new reactor work satisfies OBRA-90's requirement that costs be allocated fairly and that, “[t]o the maximum extent practicable, the charges shall have a reasonable relationship to the cost of providing regulatory services.” No change was made to the final rule in response to this comment.

Comment: The proposed fee rule fails to recover user fees from every person who receives a service or thing of value the full cost of such service or thing of value. Of the $935.3 million that the Commission must recover through fees, only $324.5 million is estimated to be recovered through 10 CFR part 170 user fees. This could be correct only if approximately two-thirds of the NRC's budget does not benefit any identifiable entity, which is presumably not the case. As an example, user fees do not appear to be imposed for vendor inspections despite the fact that vendors are identifiable persons receiving the benefit of NRC inspections to establish their qualifications to provide safety-related services. Also, the costs for advanced reactor research should be recovered through user fees charged to applicants or pre-applicants. (Exelon)

Response: Within the confines of the IOAA, the NRC recovers user fees from as many people as legally possible. To take the commenter's specific examples, the NRC cannot assess user fees when performing vendor inspections. The NRC's vendor inspection program verifies that reactor licensees are fulfilling their regulatory obligations with respect to providing effective oversight of the supply chain. The licensee, not the NRC, establishes a vendor's qualifications to provide safety-related items and services; the vendor, therefore, does not receive a tangible benefit from the NRC when the NRC performs its inspection because the vendor is not receiving any sort of NRC stamp-of-approval or certification. The NRC cannot bill vendor inspections directly to specific licensees because the vendor is typically supplying more than one licensee at any given time. It is expected that many licensees will benefit from the inspection, both the specific customers at the time of the inspection, future customers who may not be known at the time of the inspection, and the industry in general because the Nuclear Procurement Issues Committee (NUPIC) uses NRC vendor inspection findings in preparation for its audits.

Regarding advanced reactor research, the NRC is not conducting any generic research for advanced non-light water reactor designs that can be charged as user fees to specific applicants. Because these are generic costs that do not directly benefit a specific applicant, NRC cannot legally recover these costs through IOAA user fees. No change was made to the final rule in response to this document.

Comment: The annual fee for operating reactors should not be assessed solely on the 99 current operating licensees licensed under 10 CFR part 50, but should also include holders of COLs under 10 CFR part 52. The NRC's generic activities for operating reactors, such as Fukushima Near-Term Task Force activities, benefit 10 CFR part 52 combined license holders as much as 10 CFR part 50 operating licensees. Assigning costs only to 10 CFR part 50 operating licenses is inequitable, particularly because the current COL holders are far better positioned to recover these costs than many current operating licensees; they remain electric utilities able to recover costs through rates and regulatory costs during construction are largely capitalized. (Exelon)

Response: The NRC disagrees with the commenter's proposed recommendation. Historically, plants licensed under 10 CFR part 50 did not enter into the fee class of operating plants until permission was granted by the NRC to load fuel and begin power operation. Although combined license holders under 10 CFR part 52 do hold an operating license, they do not approach a comparable status to plants licensed under 10 CFR part 50 until the Commission determines that the inspections, tests, analyses, and acceptance criteria are satisfied pursuant to 10 CFR 52.103(g), all operational programs are functional, and program compliance with regulations demonstrated. Therefore, the NRC believes that fairness concerns dictate that the NRC should not charge COL holders the same fees as operating plants during their construction and pre-operation phases. No change was made to the final rule in response to this comment.

Comment: The FY 2015 proposed fee rule hourly rate of $277 remains high in comparison to the hourly rates of consultants working for the uranium recovery industry which contributes to huge regulatory costs for licensees due to the large number of hours expended by NRC staff. (WMA, Kennecott Uranium Recovery)

Response: The fees assessed to licensees and applicants by the NRC must conform to OBRA-90 and IOAA requirements, in contrast to industry consultants working for the uranium recovery industry. Under the IOAA, the NRC must recover the full costs of providing specific regulatory benefits to identifiable applicants and licensees. In so doing, the NRC establishes an hourly rate for its work. Consistent with the law, the NRC determines its hourly rate by dividing the sum of recoverable budgeted resources for: (1) Mission-direct program salaries and benefits; (2) mission-indirect program support; and (3) agency overhead or indirect costs—which includes corporate support, office support and the IG. The mission-direct FTE hours are the product of the mission-direct FTE multiplied by the hours per direct FTE. The only budgeted resources excluded from the hourly rate are those for contract activities related to mission-direct and fee-relief activities. No change was made to the final rule in response to this comment.

C. Fuel Facilities

Comment: The NRC should adequately explain the basis for the significant increase in annual fees for fuel facilities in the proposed fee rule. Although the proposed rule attributes the increase to a reduction in 10 CFR part 170 fees from construction delays and a slight increase in budgeted resources, it does not explain how or why the redirected resources that were budgeted for construction-related activities were redirected to 10 CFR part 171-related activities for fuel facilities. (NEI)

Response: Fuel Facility Business Line (FFBL) fees for FY 2015 are tied to the President's FY 2015 budget. As noted by the commenter, the proposed FY 2015 FFBL budget, and corresponding FY 2015 fees, increased significantly in FY 2015. When the FY 2015 budget request was developed in FY 2013, drivers for the increased FFBL budget encompassed a number of planned or proposed activities, including: construction oversight activities for several facilities under construction; an increase in the number of complex licensing activities associated with facilities under construction; an application for a new facility; a continuation of post-Fukushima activities; and a number of infrastructure enhancements. These FY 2015 planning assumptions were based on industry feedback and Commission direction. Some of this projected work did not materialize and the FFBL budget was reduced accordingly in the FY 2015 enacted budget. As a result of this reduction, the final fee increase is not as significant as the anticipated increase identified in the proposed rule, which was based on higher FFBL resources in the President's budget.

In addition to an increase in the FFBL budget line, another factor for the increase in FFBL annual fees is the reduced number of FFBL licensees to whom the NRC can distribute those fees (one facility was decertified in 2015). No change was made to the final rule in response to this comment; however, the final rule has been changed to reflect changes in the FFBL calculations.

D. Other Issues

Comment: We encourage the NRC to conduct future meetings regarding fees. (NEI)

Response: The NRC supports future meetings that allow for the exchange information between the NRC and the public in our efforts to be more transparent. No change was made to the final rule in response to this comment.

Comment: The NRC should improve the transparency, timeliness, and predictability of the fee rule by more explicitly integrating the rulemaking with NRC's budget process. The NRC's current schedule for publishing the proposed and final annual fee rule falls short of these objectives and inhibits sound financial planning by licensees in budgeting for NRC fees. Greater transparency and predictability in fee policy could be realized if the NRC published the proposed rule in the first quarter of the fiscal year (based on the CBJ if Congress has yet to enact appropriations) and the final fee rule in the second or early third quarter of the fiscal year. (NEI)

Response: OBRA-90 requires that the NRC collect approximately 90 percent of its budget authority through fees by the end of the fiscal year, and the NRC must set its fees in accordance with its own budget. Further, the annual appropriation cycle places additional constraints upon the NRC. Because the NRC does not know the amount of fees it will need to collect until after it receives its annual appropriation from Congress, the NRC cannot start the Federal rulemaking process until sometime in the fall, usually after the first quarter. The NRC believes that reliance on the most up-to-date financial data available in determining fees as opposed to the CBJ ensures that the NRC meets the requirements of OBRA-90 as this practice ensures that NRC fees assessed bear a reasonable relationship to the cost of NRC services. The NRC recognizes that the issuance of the rule may not coincide with budget cycles of industry; however, the NRC must promulgate a notice-and-comment rule based on the most accurate data available regarding the cost of NRC services in the context of NRC's budget for a given fiscal year. No change was made to the final rule in response to this comment.

Comment: The NRC estimates that the FY 2015 final fee rule hourly rate will be $268, which is lower than the FY 2015 proposed fee rule hourly rate. Imposing the higher hourly rate for the first three quarters of FY 2015 amounts to an unjustified overcharge and appears contrary to the IOAA. The IOAA requires that charges by federal agencies be fair and based on, among other things, the costs to the agency and the value of the service to the recipient. The NRC should establish regulations in 10 CFR part 170 to allow for a remedy for licensees to be reimbursed for these overcharges as a result of NRC's issuance of the rule late in the year. (NEI, Exelon)

Response: The NRC disagrees with the comment that the estimated lower 10 CFR part 170 hourly rate will result in an unjustified overcharge and contradicts the IOAA. The hourly rate is established annually in the NRC's final fee rules; in the prior two rules, the effective dates were August 30, 2013, and August 29, 2014, respectively. The NRC acknowledges that the hourly rate charged during the first 3 quarters of the fiscal year is not the same as the hourly rate proposed in the same fiscal year. However, the NRC cannot change the current hourly rate during a fiscal year until 60 days after NRC issuance of the final rule changing the hourly rate. The NRC notes that for FY 2015, licensees will receive the majority of the benefit of the reduced hourly rate in the following fiscal year, even if the FY 2016 proposed fee rule contains a higher hourly rate. Therefore, no adjustments will be made to prior invoices as a result of the reduced hourly rate. No change was made to the final rule in response to this comment.

Comment: The portion of the budget allocated to corporate support—a key factor in both the hourly rate and annual fee calculation—appears to be disproportionately large with respect to the resources allocated for mission-direct and mission-indirect activities. Transparency in the fee rule is challenged by the use of the same term “Corporate Support” in the NRC CBJ, but which is apparently calculated in a substantially different manner. In both the fee rule and the CBJ, the budget for corporate support is excessive. Both fail to provide a clear explanation of the overhead necessary to support the NRC's core programs. The proposed fee rule also does not provide an adequate explanation of why the level of corporate support differs by more than $100 million between the FY 2015 CBJ and the FY 2015 proposed fee rule. The NRC should provide a clear explanation of the overhead necessary to support the NRC's core programs. (NEI, Duke Energy)

Response: Corporate support is one component of agency support (the other components are office support and the IG). The NRC is committed to cost-efficient budgeting and the prudent use of resources to achieve the agency's mission objectives. In recent years, the NRC has taken a comprehensive look at overhead resources, reducing both FTE and contract support dollars through streamlining initiatives. Centralization of corporate functions was a primary contributor to the decrease. Another contributor included the merger between the Office of Federal and State Materials and Environmental Management and the Office of Nuclear Material Safety and Safeguards.

To assist in the continued streamlining of corporate support functions, the NRC recently contracted with an outside entity to conduct a review of the agency's overhead functions and to identify ways to reduce costs with no impact on the agency's ability to carry out its mission. This review, which involved interviews with and benchmarking against peer agencies, confirmed that there is no standard government-wide definition of overhead costs, but found that NRC overhead costs are roughly in line with peer agencies with respect to the standard corporate support cost categories used by the Federal Chief Executive Officers Council—acquisition, financial management, information technology, human capital, and real property. However, because of its mission, the NRC has additional security requirements that contribute to higher overhead costs in areas such as physical and personnel security. The review also resulted in recommendations on how the NRC can implement leading practices that have reduced overhead costs at peer agencies. The NRC will consider these recommendations in implementing the Project AIM strategy approved by the Commission.

Finally, with respect to the commenters' concerns regarding transparency, the NRC acknowledges that the different definitions of “Corporate Support” used in the fee rule and the agency's CBJ have made it difficult for licensees and members of the public to understand the relationship between the numbers presented in the two documents. The NRC is committed to transparency, and it will examine ways to present information about overhead costs more consistently in future fee rules, and to clarify any differences necessitated by the unique requirements of the fee rule calculations. In line with related recommendations of the independent overhead review, the NRC will continue to examine how the agency can more appropriately categorize its resources to ensure that overhead and programmatic costs are properly and clearly presented. A change was made to the final rule to capture corporate support under agency support in this final rule as a result of this comment.

Comment: The industry is concerned about the decrease in 10 CFR part 170-related activities under the FY 2015 proposed fee rule. (NEI)

Response: The decline in 10 CFR part 170 activities concerning power reactors is a result of unexpected application suspensions (particularly, the U.S. EPR design certification application and the Calvert Cliffs combined license application). As the NRC completes the generic regulatory actions that resulted from the Fukushima Near-Term Task Force (NTTF) report, the costs related to those generic actions will decline. Relatedly, as the affected licensees and certificate holders implement the NTTF recommendations, follow-up activities will likely result in site-specific action on the part of the NRC. This shift in activities will likely cause the costs related to site-specific actions to increase for that workload, resulting in an increase in fees for site-specific activities (10 CFR part 170). No change was made to the final rule in response to this comment.

Comment: The NRC invoices lack standard details that every consultant, law or accounting firm in the private sector must provide and the NRC's hourly rates exceed those of many of these organizations in the Western part of the country. Also, the current invoices do not offer industry any opportunity to gauge the reasonableness of fees incurred for different phases of the licensing process making it impossible to implement a lessons-learned initiative on future licensing actions or provide for meaningful budget planning. (WMA, Kennecott Uranium Company)

Response: The NRC currently offers to provide estimates of costs incurred on a biweekly basis to licensees. The estimates include all (10 CFR part 170) costs that accumulated for license fee billing during the previous NRC pay period. The estimates include NRC staff names with associated number of hours worked, as well as contractor company names associated with contract costs which offer licensees additional detail. These estimates may assist licensees in budget planning and preparing to receive their next quarterly invoice. Licensees may request to receive biweekly estimates by sending an email to FEES.Resource@nrc.gov with docket number(s) and licensee email address(es) to which the estimates should be sent. Unlike other organizations, the fees assessed by NRC to licensees and applicants including fees subject to NRC's hourly rate must comply with OBRA-90 requirements. No change was made to the final rule in response to this comment.

Comment: The NRC current estimate of the direct hours per FTE provides does not appear to be justifiable. While the current estimate of direct hours per FTE increased slightly from FY 2014 to 1420 hours per FTE, that estimate remains below the 1446 hour estimated in 2005, and even further below the 1776 hours estimated in previous fiscal years. (Exelon)

Response: The NRC uses an estimate of the number of direct hours per FTE to calculate the hourly rate used in 10 CFR part 170 billing. The OMB's Circular A-25, “User Charges,” does not specifically address the number of hours to assume per FTE in calculating fees, but does emphasize that agency fees should reflect the full cost of providing services to identifiable beneficiaries.

In the final fee rule for FY 2005 (70 FR 30526), the NRC revised its estimate of the number of direct hours per FTE to use a realistic estimate based on time and labor data for program employees who perform activities directly associated with the programmatic mission of the NRC. The NRC periodically reviews time and labor data to assess changes in the average number of productive hours from year to year, and determine a realistic estimate of direct hours per FTE based on the most recent data. The estimate does not include time for administrative, training, and other activities a direct program FTE may perform that, while relevant to consider for certain costing purposes, would more accurately be considered overhead rather than “direct” time for purposes of calculating a rate per hour of direct activities. The analysis is conducted at the beginning of the budget formulation cycle. The resulting productivity assumption informs workload and resource estimates in the agency's budget request. When the NRC calculates the fees required to recover the budget enacted by Congress, this same estimate of direct hours per FTE is used to calculate the hourly rate.

The estimate of 1,420 hours per FTE used in the fee rule calculation for FY 2015 was based on an analysis of actual time and labor data from FY 2011 through FY 2012. This was the most recent data available when the FY 2015 budget was formulated. Use of an updated, realistic estimate of direct hours per FTE helps ensure that the hourly rate accurately reflects the current cost of providing 10 CFR part 170 services, allowing the NRC to more fully recover the costs of these services through 10 CFR part 170 fees. No change was made to the final rule in response this comment.

Comment: Regarding small entity size standards, the NRC should consider establishing lower licensing fees by creating one or more additional ranges between the $520,000 and $7,500,000 gross annual receipts range. A fee rate schedule with more steps for small businesses would help reduce the license fee burden on the smaller entities and address small business concerns. (Rendezvous Engineering, P.C.)

Response: To reduce the significance of the annual fees on a substantial number of small entities, the NRC established the maximum small entity fee in 1991. In FY 1992, the NRC introduced a second lower tier to the small entity fee. Because the NRC's methodology for small entity size standards has been approved by the Small Business Administration, the NRC did not modify its current methodology for this rulemaking. No change was made to the final rule in response to this comment.

E. Comments on Matters Not Related to This Rulemaking

The NRC also received comments not related to this rulemaking. These comments suggested that the NRC implement a number of recommendations to improve the efficiency of NRC operations. These recommendations included: favoring and enhancing risk-informed, performance-based licensing and regulatory approaches; increasing the efficiency of certain environmental reviews; adhering to existing Commission-approved guidance while working to prepare new guidance with the aid of stakeholder input; certifying standardized designs for uranium recovery facilities to streamline the application and review process; developing guidance, after an opportunity for public comment, regarding the consultation process under Section 106 of the National Historic Preservation Act; shifting experienced NRC staff personnel from the Office of New Reactors to the Office of Nuclear Reactor Regulation; and increasing the agency's focus on resource management and workload prioritization. (NEI, Exelon, WMA, Duke, Kennecott Uranium Recovery). The NRC also received two comments expressing support for the development of a proposed rule to address a variable annual fee structure for small modular reactors. (AREVA, TVA)

All of these matters are outside the scope of this rulemaking. The primary purpose of the NRC's annual fee recovery rulemaking is to update the NRC's fee schedules to recover approximately 90 percent of the appropriations that the NRC received for the current fiscal year, and to make other necessary corrections or appropriate changes to specific aspects of the NRC's fee regulations in order to ensure compliance with OBRA-90, as amended. The NRC's annual fee recovery rulemaking is to update the NRC's fee schedules to account for the appropriations the NRC received for the current fiscal year, and to make other necessary corrections or appropriate changes to specific aspects of the NRC's fee regulations.

The NRC takes very seriously the importance of examining and improving the efficiency of its operations and the prioritization of its regulatory activities. Recognizing the importance of continuous reexamination and improvement of the way the agency does business, the NRC has undertaken, and continues to undertake, a number of significant initiatives aimed at improving the efficiency of NRC operations and enhancing the agency's approach to regulating. Though comments addressing these issues may not be within the scope of this fee rulemaking, the NRC will consider this input in our future program operations.

V. Section-by-Section Analysis

The following paragraphs describe the specific amendments for this final rule.

10 CFR 170.3, Definitions

The NRC adds a new definition of “Overhead and General and Administrative Costs” and revises the definition for “Utilization facility.”

10 CFR 170.20, Average Cost per Professional Staff-Hour

The NRC revises this section to reflect the hourly rate for FY 2015.

10 CFR 170.21, Schedule of Fees for Production or Utilization Facilities, Review of Standard Referenced Design Approvals, Special Projects, Inspections, and Import and Export Licenses

The NRC revises fees for fee category code K. to reflect the FY 2015 hourly rate for flat fee applications.

10 CFR 170.31, Schedule of Fees for Materials Licenses and Other Regulatory Services, Including Inspections, and Import and Export Licenses

The NRC adds subcategories to fee category 3.L. licenses (broad scope) to assess additional fees to licensees such as the United States Department of Agriculture and the Department of the Army, in order to accurately reflect the cost of services provided by the NRC. The NRC revises footnote 6 to avoid duplicate billing for fuel cycle facility licensees.

10 CFR 171.5, Definitions

The NRC modifies the definition for “Overhead and General and Administrative Costs” to reflect the FY 2008 merger of the Advisory Committee on Nuclear Waste with the Advisory Committee on Reactor Safeguards.

10 CFR 171.15, Annual Fees: Reactor Licenses and Independent Fuel Storage Licenses

The NRC revises paragraph (b)(1) to reflect the required FY 2015 annual fee to be collected from each operating power reactor by September 30, 2015. The NRC revises the introductory text of paragraph (b)(2) to reflect FY 2015 in reference to annual fees and fee-relief adjustment. The NRC revises paragraph (c)(1) and the introductory text of paragraph (c)(2) to reflect the FY 2015 spent fuel storage/reactor decommissioning and spent fuel storage annual fee for 10 CFR part 50 licenses and 10 CFR part 72 licensees who do not hold a 10 CFR part 50 license, and the FY 2015 fee-relief adjustment. The NRC revises the introductory text of paragraph (d)(1) and paragraphs (d)(2) and (d)(3) to reflect the FY 2015 fee-relief adjustment for the operating reactor power class of licenses, the number of operating power reactors, and the FY 2015 fee-relief adjustment for spent fuel storage reactor decommissioning class of licenses. The NRC revises paragraph (e) to reflect the FY 2015 annual fees for research reactors and test reactors.

10 CFR 171.16, Annual Fees: Materials Licensees, Holders of Certificates of Compliance, Holders of Sealed Source and Device Registrations, Holders of Quality Assurance Program Approvals, and Government Agencies Licensed by the NRC

The NRC revises paragraphs (d) and (e) to reflect FY 2015 annual fees and the FY 2015 fee-relief adjustment. The NRC adds subcategories to fee category 3.L. licenses (broad scope) to assess additional fees to licensees such as the Department of Agriculture and the Department of the Army, in order to accurately reflect the cost of services provided by the NRC. The NRC also revises footnote 6 to avoid duplicate billing for fuel cycle facility licensees.

VI. Regulatory Flexibility Certification

Section 604 of the Regulatory Flexibility Act requires agencies to perform an analysis that considers the impact of a rulemaking on small entities. The NRC's regulatory flexibility analysis for this final rule is available as indicated in Section XV, Availability of Documents, of this document, and a summary is provided in the following paragraphs.

The NRC is required by the OBRA-90, as amended, to recover approximately 90 percent of its FY 2015 budget authority through the assessment of user fees. The OBRA-90 further requires that the NRC establish a schedule of charges that fairly and equitably allocates the aggregate amount of these charges among licensees.

The FY 2015 final rule establishes the schedules of fees necessary for the NRC to recover 90 percent of its budget authority for FY 2015. The final rule estimates some increases in annual fees charged to certain licensees and holders of certificates, registrations, and approvals, and decreases in those annual fees charged to others. Licensees affected by these final estimates include those who qualify as small entities under the NRC's size standards in § 2.810.

The NRC prepared a FY 2015 biennial regulatory analysis in accordance with the FY 2001 final rule (66 FR 32467; June 14, 2001). This rule also stated the small entity fees will be reexamined every 2 years and in the same years the NRC conducts the biennial review of fees as required by the Chief Financial Officer's Act.

For this final rule, small entity fees increase to $3,400 for the maximum upper-tier small entity fee and increase to $700 for the lower-tier small entity as a result of the biennial review which factored in the number of increased hours for application reviews and inspections in the fee calculations. The next small entity biennial review is scheduled for FY 2017.

Additionally, the Small Business Regulatory Enforcement Fairness Act requires all Federal agencies to prepare a written compliance guide for each rule for which the agency is required by 5 U.S.C. 604 to prepare a regulatory flexibility analysis. The NRC, in compliance with the law, has prepared the “Small Entity Compliance Guide,” which is available as indicated in Section XV, Availability of Documents, of this document.

VII. Regulatory Analysis

Under OBRA-90, as amended, and the AEA, the NRC is required to recover 90 percent of its budget authority, or total appropriations of $1,015.3 million, in FY 2015. The NRC established fee methodology guidelines for 10 CFR part 170 in 1978, and more fee methodology guidelines through the establishment of 10 CFR part 171 in 1986. In subsequent rulemakings, the NRC has adjusted its fees without changing the underlying principles of its fee policy in order to ensure that the NRC continues to comply with the statutory requirements for cost recovery in OBRA-90 and the AEA.

In this rulemaking, the NRC continues this long-standing approach. Therefore, the NRC did not identify any alternatives to the current fee structure guidelines and did not prepare a regulatory analysis for this rulemaking.

VIII. Backfitting and Issue Finality

The NRC has determined that the backfit rule, 10 CFR 50.109, does not apply to this final rule and that a backfit analysis is not required. A backfit analysis is not required because these amendments do not require the modification of, or addition to, systems, structures, components, or the design of a facility, or the design approval or manufacturing license for a facility, or the procedures or organization required to design, construct, or operate a facility.

IX. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31883).

X. National Environmental Policy Act

The NRC has determined that this rule is the type of action described in 10 CFR 51.22(c)(1). Therefore, neither an environmental impact statement nor an environmental assessment has been prepared for this final rule.

XI. Paperwork Reduction Act

This rule does not contain any information collection requirements and, therefore, is not subject to the requirements of the Paperwork Reduction Act of 1995 (44 U.S.C. 3501-3521.

Public Protection Notification

The NRC may not conduct or sponsor, and a person is not required to respond to a request for information or an information collection requirement unless the requesting document displays a currently valid OMB control number.

XII. Congressional Review Act

In accordance with the Congressional Review Act of 1996 (5 U.S.C. 801-808), the NRC has determined that this action is a major rule and has verified the determination with the Office of Information and Regulatory Affairs of the Office of Management and Budget.

XIII. Voluntary Consensus Standards

The National Technology Transfer and Advancement Act of 1995, Public Law 104-113, requires that Federal agencies use technical standards that are developed or adopted by voluntary consensus standards bodies unless the use of such a standard is inconsistent with applicable law or otherwise impractical. In this final rule, the NRC amends the licensing, inspection, and annual fees charged to its licensees and applicants, as necessary, to recover approximately 90 percent of its budget authority in FY 2015, as required by OBRA-90, as amended. This action does not constitute the establishment of a standard that contains generally applicable requirements.

XIV. Availability of Guidance

The Small Business Regulatory Enforcement Fairness Act requires all Federal agencies to prepare a written compliance guide for each rule for which the NRC is required by 5 U.S.C. 604 to prepare a regulatory flexibility analysis. The NRC, in compliance with the law, prepared the “Small Entity Compliance Guide” for the FY 2015 final fee rule. This document is available as indicated in Section XV, “Availability of Documents,” of this document.

XV. Availability of Documents

The documents identified in the following table are available to interested persons through one or more of the following methods, as indicated.

Document | ADAMS Accession No./Web Link
FY 2015 Final Rule Work Papers | ML15160A434.
FY 2015 Regulatory Flexibility Analysis | ML15058A385.
FY 2015 U.S. Nuclear Regulatory Commission Small Entity Compliance Guide | ML15058A332.
NUREG-1100, Volume 30, “Congressional Budget Justification: Fiscal Year 2015” (March 2014) | http://www.nrc.gov/reading-rm/doc-collections/nuregs/staff/sr1100/v30/.
NRC Form 526, Certification of Small Entity Status for the Purposes of Annual Fees Imposed under 10 CFR Part 171 | http://www.nrc.gov/reading-rm/doc-collections/forms/nrc526.pdf.
Consolidated and Further Continuing Appropriations Act, 2015 | https://www.congress.gov/113/bills/hr83/BILLS-113hr83enr.pdf.
SECY-05-0164, “Annual Fee Calculation Method,” September 15, 2005 | ML052580332.
Staff Requirements Memorandum for SECY-14-0082, “Jurisdiction for Military Radium and U.S. Nuclear Regulatory Commission Oversight of U.S. Department of Defense Remediation of Radioactive Material,” December 22, 2014 | ML14356A070.
FY 2015 Proposed Fee Rule Comment Submissions | ML15156A633.
OMB's Circular A-25, “User Charges” | https://www.whitehouse.gov/omb/circulars_a025/.
Transcript of Public Meeting on Fees, April 20, 2015 | ML15153A028.
FY 2015 Proposed Fee Rule | ML15057A090.
FY 2015 Proposed Fee Rule Work Papers | ML15021A198.

List of Subjects

10 CFR Part 170

Byproduct material, Import and export licenses, Intergovernmental relations, Non-payment penalties, Nuclear materials, Nuclear power plants and reactors, Source material, Special nuclear material.

10 CFR Part 171

Annual charges, Byproduct material, Holders of certificates, registrations, approvals, Intergovernmental relations, Nonpayment penalties, Nuclear materials, Nuclear power plants and reactors, Source material, Special nuclear material.

For the reasons set out in the preamble and under the authority of the Atomic Energy Act of 1954, as amended; the Energy Reorganization Act of 1974, as amended; and 5 U.S.C. 553, the NRC is adopting the following amendments to 10 CFR parts 170 and 171.

PART 170—FEES FOR FACILITIES, MATERIALS IMPORT AND EXPORT LICENSES AND OTHER REGULATORY SERVICES UNDER THE ATOMIC ENERGY ACT OF 1954, AS AMENDED

1. The authority citation for part 170 continues to read as follows:

Authority: Independent Offices Appropriations Act sec. 501 (31 U.S.C. 9701); Atomic Energy Act sec. 161(w) (42 U.S.C. 2201(w)); Energy Reorganization Act sec. 201 (42 U.S.C. 5841); Chief Financial Officers Act sec. 205 (31 U.S.C. 901, 902); Government Paperwork Elimination Act sec. 1704 (44 U.S.C. 3504 note); Energy Policy Act secs. 623, Energy Policy Act of 2005 sec. 651(e), Pub. L. 109-58, 119 Stat. 783 (42 U.S.C. 2201(w), 2014, 2021, 2021b, 2111).

2. In § 170.3, add a new definition for “Overhead and general and administrative costs” in alphabetical order and revise the definition for “Utilization facility” to read as follows:

§ 170.3 Definitions.

* * * * *

Overhead and general and administrative costs means:

(1) The Government benefits for each employee such as leave and holidays, retirement and disability benefits, health and life insurance costs, and social security costs;

(2) Travel costs;

(3) Overhead [e.g., supervision and support staff that directly support the NRC's Nuclear Reactor Safety Program and Nuclear Materials Safety and Waste Program; administrative support costs (e.g., rental of space, equipment, telecommunications, and supplies)]; and

(4) Indirect costs that would include, but not be limited to, NRC central policy direction, legal, and executive management services for the Commission, and special and independent reviews, investigations, and enforcement, and appraisal of NRC programs and operations. Some of the organizations included, in whole or in part, are the Commissioners, Secretary, Executive Director for Operations, General Counsel, Congressional and Public Affairs (except for international safety and safeguards programs), Inspector General, Investigations, Enforcement, Small Business and Civil Rights, the Technical Training Center, Advisory Committee on Reactor Safeguards, and the Atomic Safety and Licensing Board Panel. The Commission views these budgeted costs as support for all its regulatory services provided to applicants, licensees, and certificate holders, and these costs must be recovered under Public Law 101-508.

* * * * *

Utilization facility means:

(1) Any nuclear reactor other than one designed or used primarily for the formation of plutonium or U-233; or

(2) An accelerator-driven subcritical operating assembly used for the irradiation of materials containing special nuclear material and described in the application assigned docket number 50-608.

3. Revise § 170.20 to read as follows:

§ 170.20 Average cost per professional staff-hour.

Fees for permits, licenses, amendments, renewals, special projects, 10 CFR part 55 re-qualification and replacement examinations and tests, other required reviews, approvals, and inspections under §§ 170.21 and 170.31 will be calculated using the professional staff-hour rate of $268 per hour.

4. In § 170.21, in the table, revise the fee category K. to read as follows:

§ 170.21 Schedule of fees for production or utilization facilities, review of standard referenced design approvals, special projects, inspections, and import and export licenses.

* * * * *

Schedule of Facility Fees
[See footnotes at end of table]
Facility categories and type of fees | Fees ¹ ²
* * * * * * *
K. Import and export licenses:
Licenses for the import and export only of production or utilization facilities or the export only of components for production or utilization facilities issued under 10 CFR part 110.
1. Application for import or export of production or utilization facilities ⁴ (including reactors and other facilities) and exports of components requiring Commission and Executive Branch review, for example, actions under 10 CFR 110.40(b).
Application—new license, or amendment; or license exemption request | $17,400
2. Application for export of reactor and other components requiring Executive Branch review, for example, those actions under 10 CFR 110.41(a).
Application—new license, or amendment; or license exemption request | 9,400
3. Application for export of components requiring the assistance of the Executive Branch to obtain foreign government assurances.
Application—new license, or amendment; or license exemption request | 4,300
4. Application for export of facility components and equipment not requiring Commission or Executive Branch review, or obtaining foreign government assurances.
Application—new license, or amendment; or license exemption request | 4,800
5. Minor amendment of any active export or import license, for example, to extend the expiration date, change domestic information, or make other revisions which do not involve any substantive changes to license terms or conditions or to the type of facility or component authorized for export and, therefore, do not require in-depth analysis or review or consultation with the Executive Branch, U.S. host state, or foreign government authorities.
Minor amendment to license | 2,700
¹ Fees will not be charged for orders related to civil penalties or other civil sanctions issued by the Commission under § 2.202 of this chapter or for amendments resulting specifically from the requirements of these orders. For orders unrelated to civil penalties or other civil sanctions, fees will be charged for any resulting licensee-specific activities not otherwise exempted from fees under this chapter. Fees will be charged for approvals issued under a specific exemption provision of the Commission's regulations under Title 10 of the Code of Federal Regulations (e.g., 10 CFR 50.12, 10 CFR 73.5) and any other sections in effect now or in the future, regardless of whether the approval is in the form of a license amendment, letter of approval, safety evaluation report, or other form.
² Full cost fees will be determined based on the professional staff time and appropriate contractual support services expended. For applications currently on file and for which fees are determined based on the full cost expended for the review, the professional staff hours expended for the review of the application up to the effective date of the final rule will be determined at the professional rates in effect when the service was provided.
* * * * * * *
⁴ Imports only of major components for end-use at NRC-licensed reactors are authorized under NRC general import license in 10 CFR 110.27.

5. In § 170.31, revise the table to read as follows:

§ 170.31 Schedule of fees for materials licenses and other regulatory services, including inspections, and import and export licenses.

* * * * *

Schedule of Materials Fees
[See footnotes at end of table]
Category of materials licenses and type of fees ¹ | Fee ² ³
1. Special nuclear material:
A. (1) Licenses for possession and use of U-235 or plutonium for fuel fabrication activities.
(a) Strategic Special Nuclear Material (High Enriched Uranium) [Program Code(s): 21130] | Full Cost.
(b) Low Enriched Uranium in Dispersible Form Used for Fabrication of Power Reactor Fuel [Program Code(s): 21210] | Full Cost.
(2) All other special nuclear materials licenses not included in Category 1.A.(1) which are licensed for fuel cycle activities.
(a) Facilities with limited operations [Program Code(s): 21310, 21320] | Full Cost.
(b) Gas centrifuge enrichment demonstration facilities | Full Cost.
(c) Others, including hot cell facilities | Full Cost.
B. Licenses for receipt and storage of spent fuel and reactor-related Greater than Class C (GTCC) waste at an independent spent fuel storage installation (ISFSI) [Program Code(s): 23200] | Full Cost.
C. Licenses for possession and use of special nuclear material of less than a critical mass as defined in § 70.4 in sealed sources contained in devices used in industrial measuring systems, including x-ray fluorescence analyzers.⁴
Application [Program Code(s): 22140] | $1,200.
D. All other special nuclear material licenses, except licenses authorizing special nuclear material in sealed or unsealed form in combination that would constitute a critical mass, as defined in § 70.4 of this chapter, for which the licensee shall pay the same fees as those under Category 1.A.⁴
Application [Program Code(s): 22110, 22111, 22120, 22131, 22136, 22150, 22151, 22161, 22170, 23100, 23300, 23310] | $2,500.
E. Licenses or certificates for construction and operation of a uranium enrichment facility [Program Code(s): 21200] | Full Cost.
F. For special nuclear materials licenses in sealed or unsealed form of greater than a critical mass as defined in § 70.4 of this chapter.⁴ [Program Code(s): 22155] | Full Cost.
2. Source material:
A. (1) Licenses for possession and use of source material for refining uranium mill concentrates to uranium hexafluoride or for deconverting uranium hexafluoride in the production of uranium oxides for disposal. [Program Code(s): 11400] | Full Cost.
(2) Licenses for possession and use of source material in recovery operations such as milling, in-situ recovery, heap-leaching, ore buying stations, ion-exchange facilities, and in processing of ores containing source material for extraction of metals other than uranium or thorium, including licenses authorizing the possession of byproduct waste material (tailings) from source material recovery operations, as well as licenses authorizing the possession and maintenance of a facility in a standby mode.
(a) Conventional and Heap Leach facilities [Program Code(s): 11100] | Full Cost.
(b) Basic In Situ Recovery facilities [Program Code(s): 11500] | Full Cost.
(c) Expanded In Situ Recovery facilities [Program Code(s): 11510] | Full Cost.
(d) In Situ Recovery Resin facilities [Program Code(s): 11550] | Full Cost.
(e) Resin Toll Milling facilities [Program Code(s): 11555] | Full Cost.
(f) Other facilities [Program Code(s): 11700] | Full Cost.
(3) Licenses that authorize the receipt of byproduct material, as defined in Section 11e.(2) of the Atomic Energy Act, from other persons for possession and disposal, except those licenses subject to the fees in Category 2.A.(2) or Category 2.A.(4) [Program Code(s): 11600, 12000] | Full Cost.
(4) Licenses that authorize the receipt of byproduct material, as defined in Section 11e.(2) of the Atomic Energy Act, from other persons for possession and disposal incidental to the disposal of the uranium waste tailings generated by the licensee's milling operations, except those licenses subject to the fees in Category 2.A.(2) [Program Code(s): 12010] | Full Cost.
(5) Licenses that authorize the possession of source material related to removal of contaminants (source material) from drinking water [Program Code(s): 11820] | Full Cost.
B. Licenses which authorize the possession, use, and/or installation of source material for shielding.⁶ ⁷ ⁸
Application [Program Code(s): 11210] | $1,180.
C. Licenses to distribute items containing source material to persons exempt from the licensing requirements of part 40 of this chapter.
Application [Program Code(s): 11240] | $2,700.
D. Licenses to distribute source material to persons generally licensed under part 40 of this chapter.
Application [Program Codes(s): 11230, 11231] | $2,700.
E. Licenses for possession and use of source material for processing or manufacturing of products or materials containing source material for commercial distribution.
Application [Program Code(s): 11710] | $2,500.
F. All other source material licenses.
Application [Program Code(s): 11200, 11220, 11221, 11300, 11800, 11810] | $2,500.
3. Byproduct material:
A. Licenses of broad scope for the possession and use of byproduct material issued under parts 30 and 33 of this chapter for processing or manufacturing of items containing byproduct material for commercial distribution.
Application [Program Code(s): 03211, 03212, 03213] | $12,500.
B. Other licenses for possession and use of byproduct material issued under part 30 of this chapter for processing or manufacturing of items containing byproduct material for commercial distribution.
Application [Program Code(s): 03214, 03215, 22135, 22162] | $3,500.
C. Licenses issued under §§ 32.72 and/or 32.74 of this chapter that authorize the processing or manufacturing and distribution or redistribution of radiopharmaceuticals, generators, reagent kits, and/or sources and devices containing byproduct material. This category does not apply to licenses issued to nonprofit educational institutions whose processing or manufacturing is exempt under § 170.11(a)(4).
Application [Program Code(s): 02500, 02511, 02513] | $5,000.
D. [Reserved] | N/A.
E. Licenses for possession and use of byproduct material in sealed sources for irradiation of materials in which the source is not removed from its shield (self-shielded units).
Application [Program Code(s): 03510, 03520] | $3,100.
F. Licenses for possession and use of less than 10,000 curies of byproduct material in sealed sources for irradiation of materials in which the source is exposed for irradiation purposes. This category also includes underwater irradiators for irradiation of materials where the source is not exposed for irradiation purposes.
Application [Program Code(s): 03511] | $6,300.
G. Licenses for possession and use of 10,000 curies or more of byproduct material in sealed sources for irradiation of materials in which the source is exposed for irradiation purposes. This category also includes underwater irradiators for irradiation of materials where the source is not exposed for irradiation purposes.
Application [Program Code(s): 03521] | $59,800.
H. Licenses issued under Subpart A of part 32 of this chapter to distribute items containing byproduct material that require device review to persons exempt from the licensing requirements of part 30 of this chapter. The category does not include specific licenses authorizing redistribution of items that have been authorized for distribution to persons exempt from the licensing requirements of part 30 of this chapter.
Application [Program Code(s): 03254, 03255, 03257] | $6,400.
I. Licenses issued under Subpart A of part 32 of this chapter to distribute items containing byproduct material or quantities of byproduct material that do not require device evaluation to persons exempt from the licensing requirements of part 30 of this chapter. This category does not include specific licenses authorizing redistribution of items that have been authorized for distribution to persons exempt from the licensing requirements of part 30 of this chapter.
Application [Program Code(s): 03250, 03251, 03252, 03253, 03256] | $10,600.
J. Licenses issued under Subpart B of part 32 of this chapter to distribute items containing byproduct material that require sealed source and/or device review to persons generally licensed under part 31 of this chapter. This category does not include specific licenses authorizing redistribution of items that have been authorized for distribution to persons generally licensed under part 31 of this chapter.
Application [Program Code(s): 03240, 03241, 03243] | $1,900.
K. Licenses issued under Subpart B of part 32 of this chapter to distribute items containing byproduct material or quantities of byproduct material that do not require sealed source and/or device review to persons generally licensed under part 31 of this chapter. This category does not include specific licenses authorizing redistribution of items that have been authorized for distribution to persons generally licensed under part 31 of this chapter.
Application [Program Code(s): 03242, 03244] | $1,100.
L. Licenses of broad scope for possession and use of byproduct material issued under parts 30 and 33 of this chapter for research and development that do not authorize commercial distribution. Number of locations of use: 1-5.
(1) Licenses of broad scope for possession and use of byproduct material issued under parts 30 and 33 of this chapter for research and development that do not authorize commercial distribution. Number of locations of use: 6-20.
(2) Licenses of broad scope for possession and use of byproduct material issued under parts 30 and 33 of this chapter for research and development that do not authorize commercial distribution. Number of locations of use: 20 or more.
Application [Program Code(s): 01100, 01110, 01120, 03610, 03611, 03612, 03613] | $5,300.
M. Other licenses for possession and use of byproduct material issued under part 30 of this chapter for research and development that do not authorize commercial distribution.
Application [Program Code(s): 03620] | $4,800.
N. Licenses that authorize services for other licensees, except:
(1) Licenses that authorize only calibration and/or leak testing services are subject to the fees specified in fee Category 3.P.; and
(2) Licenses that authorize waste disposal services are subject to the fees specified in fee Categories 4.A., 4.B., and 4.C.
Application [Program Code(s): 03219, 03225, 03226] | $6,100.
O. Licenses for possession and use of byproduct material issued under part 34 of this chapter for industrial radiography operations.
Application [Program Code(s): 03310, 03320] | $3,100.
P. All other specific byproduct material licenses, except those in Categories 4.A. through 9.D. ⁹
Application [Program Code(s): 02400, 02410, 03120, 03121, 03122, 03123, 03124, 03130, 03140, 03220, 03221, 03222, 03800, 03810, 22130] | $2,600.
Q. Registration of a device(s) generally licensed under part 31 of this chapter.
Registration | $400.
R. Possession of items or products containing radium-226 identified in 10 CFR 31.12 which exceed the number of items or limits specified in that section.⁵
1. Possession of quantities exceeding the number of items or limits in 10 CFR 31.12(a)(4), or (5) but less than or equal to 10 times the number of items or limits specified.
Application [Program Code(s): 02700] | $2,500.
2. Possession of quantities exceeding 10 times the number of items or limits specified in 10 CFR 31.12(a)(4), or (5).
Application [Program Code(s): 02710] | $2,400.
S. Licenses for production of accelerator-produced radionuclides.
Application [Program Code(s): 03210] | $13,700.
4. Waste disposal and processing:
A. Licenses specifically authorizing the receipt of waste byproduct material, source material, or special nuclear material from other persons for the purpose of contingency storage or commercial land disposal by the licensee; or licenses authorizing contingency storage of low-level radioactive waste at the site of nuclear power reactors; or licenses for receipt of waste from other persons for incineration or other treatment, packaging of resulting waste and residues, and transfer of packages to another person authorized to receive or dispose of waste material. [Program Code(s): 03231, 03233, 03235, 03236, 06100, 06101] | N/A.
B. Licenses specifically authorizing the receipt of waste byproduct material, source material, or special nuclear material from other persons for the purpose of packaging or repackaging the material. The licensee will dispose of the material by transfer to another person authorized to receive or dispose of the material.
Application [Program Code(s): 03234] | $6,700.
C. Licenses specifically authorizing the receipt of prepackaged waste byproduct material, source material, or special nuclear material from other persons. The licensee will dispose of the material by transfer to another person authorized to receive or dispose of the material.
Application [Program Code(s): 03232] | $4,800.
5. Well logging:
A. Licenses for possession and use of byproduct material, source material, and/or special nuclear material for well logging, well surveys, and tracer studies other than field flooding tracer studies.
Application [Program Code(s): 03110, 03111, 03112] | $4,400.
B. Licenses for possession and use of byproduct material for field flooding tracer studies.
Licensing [Program Code(s): 03113] | Full Cost.
6. Nuclear laundries:
A. Licenses for commercial collection and laundry of items contaminated with byproduct material, source material, or special nuclear material.
Application [Program Code(s): 03218] | $21,400.
7. Medical licenses:
A. Licenses issued under parts 30, 35, 40, and 70 of this chapter for human use of byproduct material, source material, or special nuclear material in sealed sources contained in gamma stereotactic radiosurgery units, teletherapy devices, or similar beam therapy devices.
Application [Program Code(s): 02300, 02310] | $10,700.
B. Licenses of broad scope issued to medical institutions or two or more physicians under parts 30, 33, 35, 40, and 70 of this chapter authorizing research and development, including human use of byproduct material, except licenses for byproduct material, source material, or special nuclear material in sealed sources contained in teletherapy devices. This category also includes the possession and use of source material for shielding when authorized on the same license.¹⁰
Application [Program Code(s): 02110] | $8,400.
C. Other licenses issued under parts 30, 35, 40, and 70 of this chapter for human use of byproduct material, source material, and/or special nuclear material, except licenses for byproduct material, source material, or special nuclear material in sealed sources contained in teletherapy devices.
Application [Program Code(s): 02120, 02121, 02200, 02201, 02210, 02220, 02230, 02231, 02240, 22160] | $4,300.
8. Civil defense:
A. Licenses for possession and use of byproduct material, source material, or special nuclear material for civil defense activities.
Application [Program Code(s): 03710] | $2,500.
9. Device, product, or sealed source safety evaluation:
A. Safety evaluation of devices or products containing byproduct material, source material, or special nuclear material, except reactor fuel devices, for commercial distribution.
Application—each device | $5,200.
B. Safety evaluation of devices or products containing byproduct material, source material, or special nuclear material manufactured in accordance with the unique specifications of, and for use by, a single applicant, except reactor fuel devices.
Application—each device | $8,700.
C. Safety evaluation of sealed sources containing byproduct material, source material, or special nuclear material, except reactor fuel, for commercial distribution.
Application—each source | $5,100.
D. Safety evaluation of sealed sources containing byproduct material, source material, or special nuclear material, manufactured in accordance with the unique specifications of, and for use by, a single applicant, except reactor fuel.
Application—each source | $1,020.
10. Transportation of radioactive material:
A. Evaluation of casks, packages, and shipping containers.
1. Spent Fuel, High-Level Waste, and plutonium air packages | Full Cost.
2. Other Casks | Full Cost.
B. Quality assurance program approvals issued under part 71 of this chapter.
1. Users and Fabricators.
Application | $4,000.
Inspections | Full Cost.
2. Users.
Application | $4,000.
Inspections | Full Cost.
C. Evaluation of security plans, route approvals, route surveys, and transportation security devices (including immobilization devices) | Full Cost.
11. Review of standardized spent fuel facilities | Full Cost.
12. Special projects:
Including approvals, pre-application/licensing activities, and inspections.
Application [Program Code: 25110] | Full Cost.
13. A. Spent fuel storage cask Certificate of Compliance | Full Cost.
B. Inspections related to storage of spent fuel under § 72.210 of this chapter | Full Cost.
14. A. Byproduct, source, or special nuclear material licenses and other approvals authorizing decommissioning, decontamination, reclamation, or site restoration activities under parts 30, 40, 70, 72, and 76 of this chapter, including MMLs. Application [Program Code(s): 3900, 11900, 21135, 21215, 21240, 21325, 22200] | Full Cost.
B. Site-specific decommissioning activities associated with unlicensed sites, including MMLs, regardless of whether or not the sites have been previously licensed | Full Cost.
15. Import and Export licenses:
Licenses issued under part 110 of this chapter for the import and export only of special nuclear material, source material, tritium and other byproduct material, and the export only of heavy water, or nuclear grade graphite (fee categories 15.A. through 15.E.).
A. Application for export or import of nuclear materials, including radioactive waste requiring Commission and Executive Branch review, for example, those actions under 10 CFR 110.40(b).
Application—new license, or amendment; or license exemption request | $17,400.
B. Application for export or import of nuclear material, including radioactive waste, requiring Executive Branch review, but not Commission review. This category includes applications for the export and import of radioactive waste and requires NRC to consult with domestic host state authorities (i.e., Low-Level Radioactive Waste Compact Commission, the U.S. Environmental Protection Agency, etc.).
Application—new license, or amendment; or license exemption request | $9,400.
C. Application for export of nuclear material, for example, routine reloads of low enriched uranium reactor fuel and/or natural uranium source material requiring the assistance of the Executive Branch to obtain foreign government assurances.
Application—new license, or amendment; or license exemption request | $4,300.
D. Application for export or import of nuclear material not requiring Commission or Executive Branch review, or obtaining foreign government assurances.
Application—new license, or amendment; or license exemption request | $4,800.
E. Minor amendment of any active export or import license, for example, to extend the expiration date, change domestic information, or make other revisions which do not involve any substantive changes to license terms and conditions or to the type/quantity/chemical composition of the material authorized for export and, therefore, do not require in-depth analysis, review, or consultations with other Executive Branch, U.S. host state, or foreign government authorities.
Minor amendment | $1,300.
Licenses issued under part 110 of this chapter for the import and export only of Category 1 and Category 2 quantities of radioactive material listed in Appendix P to part 110 of this chapter (fee categories 15.F. through 15.R.).
Category 1 (Appendix P, 10 CFR Part 110) Exports:
F. Application for export of Appendix P Category 1 materials requiring Commission review (e.g. exceptional circumstance review under 10 CFR 110.42(e)(4)) and to obtain government-to-government consent for this process. For additional consent see 15.I.).
Application—new license, or amendment; or license exemption request | $14,700.
G. Application for export of Appendix P Category 1 materials requiring Executive Branch review and to obtain government-to-government consent for this process. For additional consents see 15.I.
Application—new license, or amendment; or license exemption request | $8,000.
H. Application for export of Appendix P Category 1 materials and to obtain one government-to-government consent for this process. For additional consents see 15.I.
Application—new license, or amendment; or license exemption request | $5,400.
I. Requests for each additional government-to-government consent in support of an export license application or active export license.
Application—new license, or amendment; or license exemption request | $270.
Category 2 (Appendix P, 10 CFR Part 110) Exports:
J. Application for export of Appendix P Category 2 materials requiring Commission review (e.g. exceptional circumstance review under 10 CFR 110.42(e)(4)).
Application—new license, or amendment; or license exemption request | $14,700.
K. Applications for export of Appendix P Category 2 materials requiring Executive Branch review.
Application—new license, or amendment; or license exemption request | $8,000.
L. Application for the export of Category 2 materials.
Application—new license, or amendment; or license exemption request | $4,000.
M. [Reserved] | N/A.
N. [Reserved] | N/A.
O. [Reserved] | N/A.
P. [Reserved] | N/A.
Q. [Reserved] | N/A.
Minor Amendments (Category 1 and 2, Appendix P, 10 CFR Part 110, Export):
R. Minor amendment of any active export license, for example, to extend the expiration date, change domestic information, or make other revisions which do not involve any substantive changes to license terms and conditions or to the type/quantity/chemical composition of the material authorized for export and, therefore, do not require in-depth analysis, review, or consultations with other Executive Branch, U.S. host state, or foreign authorities.
Minor amendment | $1,300.
16. Reciprocity:
Agreement State licensees who conduct activities under the reciprocity provisions of 10 CFR 150.20.
Application | $1,900.
17. Master materials licenses of broad scope issued to Government agencies.
Application [Program Code(s): 03614] | Full Cost.
18. Department of Energy.
A. Certificates of Compliance. Evaluation of casks, 11packages, and shipping containers (including spent fuel, high-level waste, and other casks, and plutonium air packages) | Full Cost.
B. Uranium Mill Tailings Radiation Control Act (UMTRCA) activities | Full Cost.
¹ Types of fees—Separate charges, as shown in the schedule, will be assessed for pre-application consultations and reviews; applications for new licenses, approvals, or license terminations; possession-only licenses; issuances of new licenses and approvals; certain amendments and renewals to existing licenses and approvals; safety evaluations of sealed sources and devices; generally licensed device registrations; and certain inspections. The following guidelines apply to these charges:
(a) Application and registration fees. Applications for new materials licenses and export and import licenses; applications to reinstate expired, terminated, or inactive licenses, except those subject to fees assessed at Full Cost.s; applications filed by Agreement State licensees to register under the general license provisions of 10 CFR 150.20; and applications for amendments to materials licenses that would place the license in a higher fee category or add a new fee category must be accompanied by the prescribed application fee for each category.
(1) Applications for licenses covering more than one fee category of special nuclear material or source material must be accompanied by the prescribed application fee for the highest fee category.
(2) Applications for new licenses that cover both byproduct material and special nuclear material in sealed sources for use in gauging devices will pay the appropriate application fee for fee category 1.C. only.
(b) Licensing fees. Fees for reviews of applications for new licenses, renewals, and amendments to existing licenses, pre-application consultations and other documents submitted to the NRC for review, and project manager time for fee categories subject to Full Cost. fees are due upon notification by the Commission in accordance with § 170.12(b).
(c) Amendment fees. Applications for amendments to export and import licenses must be accompanied by the prescribed amendment fee for each license affected. An application for an amendment to an export or import license or approval classified in more than one fee category must be accompanied by the prescribed amendment fee for the category affected by the amendment, unless the amendment is applicable to two or more fee categories, in which case the amendment fee for the highest fee category would apply.
(d) Inspection fees. Inspections resulting from investigations conducted by the Office of Investigations and nonroutine inspections that result from third-party allegations are not subject to fees. Inspection fees are due upon notification by the Commission in accordance with § 170.12(c).
(e) Generally licensed device registrations under 10 CFR 31.5. Submittals of registration information must be accompanied by the prescribed fee.
² Fees will not be charged for orders related to civil penalties or other civil sanctions issued by the Commission under 10 CFR 2.202 or for amendments resulting specifically from the requirements of these orders. For orders unrelated to civil penalties or other civil sanctions, fees will be charged for any resulting licensee-specific activities not otherwise exempted from fees under this chapter. Fees will be charged for approvals issued under a specific exemption provision of the Commission's regulations under Title 10 of the Code of Federal Regulations (e.g., 10 CFR 30.11, 40.14, 70.14, 73.5, and any other sections in effect now or in the future), regardless of whether the approval is in the form of a license amendment, letter of approval, safety evaluation report, or other form. In addition to the fee shown, an applicant may be assessed an additional fee for sealed source and device evaluations as shown in fee categories 9.A. through 9.D.
³ Full Cost. fees will be determined based on the professional staff time multiplied by the appropriate professional hourly rate established in § 170.20 in effect when the service is provided, and the appropriate contractual support services expended.
⁴ Licensees paying fees under categories 1.A., 1.B., and 1.E. are not subject to fees under categories 1.C., 1.D. and 1.F. for sealed sources authorized in the same license, except for an application that deals only with the sealed sources authorized by the license.
⁵ Persons who possess radium sources that are used for operational purposes in another fee category are not also subject to the fees in this category. (This exception does not apply if the radium sources are possessed for storage only.)
⁶ Licensees subject to fees under fee categories 1.A., 1.B., 1.E., or 2.A. must pay the largest applicable fee and are not subject to additional fees listed in this table.
⁷ Licensees paying fees under 3.C. are not subject to fees under 2.B. for possession and shielding authorized on the same license.
⁸ Licensees paying fees under 7.C. are not subject to fees under 2.B. for possession and shielding authorized on the same license.
⁹ Licensees paying fees under 3.N. are not subject to paying fees under 3.P. for calibration or leak testing services authorized on the same license.
¹⁰ Licensees paying fees under 7.B. are not subject to paying fees under 7.C. for broad scope license licenses issued under parts 30, 35, 40, and 70 of this chapter for human use of byproduct material, source material, and/or special nuclear material, except licenses for byproduct material, source material, or special nuclear material in sealed sources contained in teletherapy devices authorized on the same license.

PART 171—ANNUAL FEES FOR REACTOR LICENSES AND FUEL CYCLE LICENSES AND MATERIALS LICENSES, INCLUDING HOLDERS OF CERTIFICATES OF COMPLIANCE, REGISTRATIONS, AND QUALITY ASSURANCE PROGRAM APPROVALS AND GOVERNMENT AGENCIES LICENSED BY THE NRC

6. The authority citation for part 171 continues to read as follows:

Authority: Consolidated Omnibus Budget Reconciliation Act sec. 7601, Pub. L. 99-272, as amended by sec. 5601, Pub. L. 100-203, as amended by sec. 3201, Pub. L. 101-239, as amended by sec. 6101, Pub. L. 101-508, as amended by sec. 2903a, Pub. L. 102-486 (42 U.S.C. 2213, 2214), and as amended by Title IV, Pub. L. 109-103 (42 U.S.C. 2214); Atomic Energy Act sec. 161(w), 223, 234 (42 U.S.C. 2201(w), 2273, 2282); Energy Reorganization Act sec. 201 (42 U.S.C. 5841); Government Paperwork Elimination Act sec. 1704 (44 U.S.C. 3504 note); Energy Policy Act of 2005 sec. 651(e), Pub. L. 109-58 (42 U.S.C. 2014, 2021, 2021b, 2111).

7. In § 171.15, revise paragraph (b)(1), the introductory text of paragraph (b)(2), paragraph (c)(1), the introductory text of paragraphs (c)(2) and (d)(1), and paragraphs (d)(2), (d)(3), and (e) to read as follows:

§ 171.15 Annual fees: Reactor licenses and independent spent fuel storage licenses.

* * * * *

(b)(1) The FY 2015 annual fee for each operating power reactor which must be collected by September 30, 2015, is $5,030,000.

(2) The FY 2015 annual fees are comprised of a base annual fee for power reactors licensed to operate, a base spent fuel storage/reactor decommissioning annual fee, and associated additional charges (fee-relief adjustment). The activities comprising the spent storage/reactor decommissioning base annual fee are shown in paragraphs (c)(2)(i) and (ii) of this section. The activities comprising the FY 2015 fee-relief adjustment are shown in paragraph (d)(1) of this section. The activities comprising the FY 2015 base annual fee for operating power reactors are as follows:

* * * * *

(c)(1) The FY 2015 annual fee for each power reactor holding a 10 CFR part 50 license that is in a decommissioning or possession-only status and has spent fuel onsite, and for each independent spent fuel storage 10 CFR part 72 licensee who does not hold a 10 CFR part 50 license, is $223,000.

(2) The FY 2015 annual fee is comprised of a base spent fuel storage/reactor decommissioning annual fee (which is also included in the operating power reactor annual fee shown in paragraph (b) of this section) and a fee-relief adjustment. The activities comprising the FY 2015 fee-relief adjustment are shown in paragraph (d)(1) of this section. The activities comprising the FY 2015 spent fuel storage/reactor decommissioning rebaselined annual fee are:

* * * * *

(d)(1) The fee-relief adjustment allocated to annual fees includes a surcharge for the activities listed in paragraph (d)(1)(i) of this section, plus the amount remaining after total budgeted resources for the activities included in paragraphs (d)(1)(ii) and (d)(1)(iii) of this section are reduced by the appropriations the NRC receives for these types of activities. If the NRC's appropriations for these types of activities are greater than the budgeted resources for the activities included in paragraphs (d)(1)(ii) and (d)(1)(iii) of this section for a given fiscal year, annual fees will be reduced. The activities comprising the FY 2015 fee-relief adjustment are as follows:

* * * * *

(2) The total FY 2015 fee-relief adjustment allocated to the operating power reactor class of licenses is a $2,088,700 fee-relief surplus, not including the amount allocated to the spent fuel storage/reactor decommissioning class. The FY 2015 operating power reactor fee-relief adjustment to be assessed to each operating power reactor is approximately a $21,098 fee-relief surplus. This amount is calculated by dividing the total operating power reactor fee-relief surplus adjustment, $2,088,700 million, by the number of operating power reactors (99).

(3) The FY 2015 fee-relief adjustment allocated to the spent fuel storage/reactor decommissioning class of licenses is a $37,100 fee-relief assessment. The FY 2015 spent fuel storage/reactor decommissioning fee-relief adjustment to be assessed to each operating power reactor, each power reactor in decommissioning or possession-only status that has spent fuel onsite, and to each independent spent fuel storage 10 CFR part 72 licensee who does not hold a 10 CFR part 50 license, is a $304 fee-relief assessment. This amount is calculated by dividing the total fee-relief adjustment costs allocated to this class by the total number of power reactor licenses, except those that permanently ceased operations and have no fuel onsite, and 10 CFR part 72 licensees who do not hold a 10 CFR part 50 license.

(e) The FY 2015 annual fees for licensees authorized to operate a research or test (nonpower) reactor licensed under 10 CFR part 50 of this chapter, unless the reactor is exempted from fees under § 171.11(a), are as follows:

Research reactor | $83,500
Test reactor | 83,500

8. In § 171.16, revise paragraph (d) and the introductory text of paragraph (e) to read as follows:

§ 171.16 Annual fees: Materials licensees, holders of certificates of compliance, holders of sealed source and device registrations, holders of quality assurance program approvals, and government agencies licensed by the NRC.

* * * * *

(d) The FY 2015 annual fees are comprised of a base annual fee and an allocation for fee-relief adjustment. The activities comprising the FY 2015 fee-relief adjustment are shown for convenience in paragraph (e) of this section. The FY 2015 annual fees for materials licensees and holders of certificates, registrations, or approvals subject to fees under this section are shown in the following table:

Schedule of Materials Annual Fees and Fees for Government Agencies Licensed by NRC
[See footnotes at end of table]
Category of materials licenses | Annual fees ¹ ² ³
1. Special nuclear material:
A. (1) Licenses for possession and use of U-235 or plutonium for fuel fabrication activities.
(a) Strategic Special Nuclear Material (High Enriched Uranium) [Program Code(s): 21130] | $8,473,000
(b) Low Enriched Uranium in Dispersible Form Used for Fabrication of Power Reactor Fuel [Program Code(s): 21210] | 2,915,000
(2) All other special nuclear materials licenses not included in Category 1.A.(1) which are licensed for fuel cycle activities.
(a) Facilities with limited operations [Program Code(s): 21310, 21320] | 0
(b) Gas centrifuge enrichment demonstration facilities | 1,640,000
(c) Others, including hot cell facilities | 820,000
B. Licenses for receipt and storage of spent fuel and reactor-related Greater than Class C (GTCC) waste at an independent spent fuel storage installation (ISFSI) [Program Code(s): 23200] | ¹¹ N/A
C. Licenses for possession and use of special nuclear material of less than a critical mass, as defined in § 70.4 of this chapter, in sealed sources contained in devices used in industrial measuring systems, including x-ray fluorescence analyzers.¹⁵ [Program Code(s): 22140] | 3,200
D. All other special nuclear material licenses, except licenses authorizing special nuclear material in sealed or unsealed form in combination that would constitute a critical mass, as defined in § 70.4 of this chapter, for which the licensee shall pay the same fees as those under Category 1.A.¹⁵ [Program Code(s): 22110, 22111, 22120, 22131, 22136, 22150, 22151, 22161, 22170, 23100, 23300, 23310] | 8,200
E. Licenses or certificates for the operation of a uranium enrichment facility [Program Code(s): 21200] | 4,009,000
F. For special nuclear materials licenses in sealed or unsealed form of greater than a critical mass as defined in § 70.4 of this chapter.¹⁵ [Program Code: 22155] | 6,800
2. Source material:
A. (1) Licenses for possession and use of source material for refining uranium mill concentrates to uranium hexafluoride or for deconverting uranium hexafluoride in the production of uranium oxides for disposal. [Program Code: 11400] | 1,731,000
(2) Licenses for possession and use of source material in recovery operations such as milling, in-situ recovery, heap-leaching, ore buying stations, ion-exchange facilities and in-processing of ores containing source material for extraction of metals other than uranium or thorium, including licenses authorizing the possession of byproduct waste material (tailings) from source material recovery operations, as well as licenses authorizing the possession and maintenance of a facility in a standby mode.
(a) Conventional and Heap Leach facilities [Program Code(s): 11100] | 36,100
(b) Basic In Situ Recovery facilities [Program Code(s): 11500] | 45,800
(c) Expanded In Situ Recovery facilities [Program Code(s): 11510] | 51,800
(d) In Situ Recovery Resin facilities [Program Code(s): 11550] | 0
(e) Resin Toll Milling facilities [Program Code(s): 11555] | ⁵ N/A
(3) Licenses that authorize the receipt of byproduct material, as defined in Section 11e.(2) of the Atomic Energy Act, from other persons for possession and disposal, except those licenses subject to the fees in Category 2.A.(2) or Category 2.A.(4) [Program Code(s): 11600, 12000] | ⁵ N/A
(4) Licenses that authorize the receipt of byproduct material, as defined in Section 11e.(2) of the Atomic Energy Act, from other persons for possession and disposal incidental to the disposal of the uranium waste tailings generated by the licensee's milling operations, except those licenses subject to the fees in Category 2.A.(2) [Program Code(s): 12010] | 20,500
(5) Licenses that authorize the possession of source material related to removal of contaminants (source material) from drinking water [Program Code(s): 11820] | 6,000
B. Licenses that authorize possession, use, and/or installation of source material for shielding.16 17 18 [Program Code: 11210] | 3,500
C. Licenses to distribute items containing source material to persons exempt from the licensing requirements of part 40 of this chapter. [Program Code: 11240] | 6,800
D. Licenses to distribute source material to persons generally licensed under part 40 of this chapter [Program Code(s): 11230 and 11231] | 6,800
E. Licenses for possession and use of source material for processing or manufacturing of products or materials containing source material for commercial distribution. [Program Code: 11710] | 8,300
F. All other source material licenses. [Program Code(s): 11200, 11220, 11221, 11300, 11800, 11810] | 7,800
3. Byproduct material:
A. Licenses of broad scope for possession and use of byproduct material issued under parts 30 and 33 of this chapter for processing or manufacturing of items containing byproduct material for commercial distribution [Program Code(s): 03211, 03212, 03213] | 30,700
B. Other licenses for possession and use of byproduct material issued under part 30 of this chapter for processing or manufacturing of items containing byproduct material for commercial distribution [Program Code(s): 03214, 03215, 22135, 22162] | 13,000
C. Licenses issued under §§ 32.72 and/or 32.74 of this chapter authorizing the processing or manufacturing and distribution or redistribution of radiopharmaceuticals, generators, reagent kits, and/or sources and devices containing byproduct material. This category also includes the possession and use of source material for shielding authorized under part 40 of this chapter when included on the same license. This category does not apply to licenses issued to nonprofit educational institutions whose processing or manufacturing is exempt under § 171.11(a)(1). [Program Code(s): 02500, 02511, 02513] | 13,500
D. [Reserved] | ⁵ N/A
E. Licenses for possession and use of byproduct material in sealed sources for irradiation of materials in which the source is not removed from its shield (self-shielded units) [Program Code(s): 03510, 03520] | 9,900
F. Licenses for possession and use of less than 10,000 curies of byproduct material in sealed sources for irradiation of materials in which the source is exposed for irradiation purposes. This category also includes underwater irradiators for irradiation of materials in which the source is not exposed for irradiation purposes [Program Code(s): 03511] | 12,300
G. Licenses for possession and use of 10,000 curies or more of byproduct material in sealed sources for irradiation of materials in which the source is exposed for irradiation purposes. This category also includes underwater irradiators for irradiation of materials in which the source is not exposed for irradiation purposes [Program Code(s): 03521] | 108,900
H. Licenses issued under subpart A of part 32 of this chapter to distribute items containing byproduct material that require device review to persons exempt from the licensing requirements of part 30 of this chapter, except specific licenses authorizing redistribution of items that have been authorized for distribution to persons exempt from the licensing requirements of part 30 of this chapter [Program Code(s): 03254, 03255] | 12,400
I. Licenses issued under subpart A of part 32 of this chapter to distribute items containing byproduct material or quantities of byproduct material that do not require device evaluation to persons exempt from the licensing requirements of part 30 of this chapter, except for specific licenses authorizing redistribution of items that have been authorized for distribution to persons exempt from the licensing requirements of part 30 of this chapter [Program Code(s): 03250, 03251, 03252, 03253, 03256] | 18,300
J. Licenses issued under subpart B of part 32 of this chapter to distribute items containing byproduct material that require sealed source and/or device review to persons generally licensed under part 31 of this chapter, except specific licenses authorizing redistribution of items that have been authorized for distribution to persons generally licensed under part 31 of this chapter [Program Code(s): 03240, 03241, 03243] | 4,700
K. Licenses issued under subpart B of part 32 of this chapter to distribute items containing byproduct material or quantities of byproduct material that do not require sealed source and/or device review to persons generally licensed under part 31 of this chapter, except specific licenses authorizing redistribution of items that have been authorized for distribution to persons generally licensed under part 31 of this chapter [Program Code(s): 03242, 03244] | 3,500
L. Licenses of broad scope for possession and use of byproduct material issued under parts 30 and 33 of this chapter for research and development that do not authorize commercial distribution. Number of locations of use: 1-5. [Program Code(s): 01100, 01110, 01120, 03610, 03611, 03612, 03613] | 17,900
(1) Licenses of broad scope for possession and use of product material issued under parts 30 and 33 of this chapter for research and development that do not authorize commercial distribution. Number of locations of use: 6-20 | 24,000
(2) Licenses of broad scope for possession and use of byproduct material issued under parts 30 and 33 of this chapter for research and development that do not authorize commercial distribution. Number of locations of use: 20 or more | 29,900
M. Other licenses for possession and use of byproduct material issued under part 30 of this chapter for research and development that do not authorize commercial distribution [Program Code(s): 03620] | 12,400
N. Licenses that authorize services for other licensees, except: (1) Licenses that authorize only calibration and/or leak testing services are subject to the fees specified in fee Category 3.P.; and (2) Licenses that authorize waste disposal services are subject to the fees specified in fee categories 4.A., 4.B., and 4.C. [Program Code(s): 03219, 03225, 03226] | 21,200
O. Licenses for possession and use of byproduct material issued under part 34 of this chapter for industrial radiography operations. This category also includes the possession and use of source material for shielding authorized under part 40 of this chapter when authorized on the same license [Program Code(s): 03310, 03320] | 25,800
P. All other specific byproduct material licenses, except those in Categories 4.A. through 9.D.¹⁹ [Program Code(s): 02400, 02410, 03120, 03121, 03122, 03123, 03124, 03140, 03130, 03220, 03221, 03222, 03800, 03810, 22130] | 8,000
Q. Registration of devices generally licensed under part 31 of this chapter | ¹³ N/A
R. Possession of items or products containing radium-226 identified in 10 CFR 31.12 which exceed the number of items or limits specified in that section: ¹⁴
1. Possession of quantities exceeding the number of items or limits in 10 CFR 31.12(a)(4), or (5) but less than or equal to 10 times the number of items or limits specified [Program Code(s): 02700] | 8,000
2. Possession of quantities exceeding 10 times the number of items or limits specified in 10 CFR 31.12(a)(4) or (5) [Program Code(s): 02710] | 8,300
S. Licenses for production of accelerator-produced radionuclides [Program Code(s): 03210] | 31,100
4. Waste disposal and processing:
A. Licenses specifically authorizing the receipt of waste byproduct material, source material, or special nuclear material from other persons for the purpose of contingency storage or commercial land disposal by the licensee; or licenses authorizing contingency storage of low-level radioactive waste at the site of nuclear power reactors; or licenses for receipt of waste from other persons for incineration or other treatment, packaging of resulting waste and residues, and transfer of packages to another person authorized to receive or dispose of waste material [Program Code(s): 03231, 03233, 03235, 03236, 06100, 06101] | ⁵ N/A
B. Licenses specifically authorizing the receipt of waste byproduct material, source material, or special nuclear material from other persons for the purpose of packaging or repackaging the material. The licensee will dispose of the material by transfer to another person authorized to receive or dispose of the material [Program Code(s): 03234] | 22,200
C. Licenses specifically authorizing the receipt of prepackaged waste byproduct material, source material, or special nuclear material from other persons. The licensee will dispose of the material by transfer to another person authorized to receive or dispose of the material [Program Code(s): 03232] | 14,700
5. Well logging:
A. Licenses for possession and use of byproduct material, source material, and/or special nuclear material for well logging, well surveys, and tracer studies other than field flooding tracer studies [Program Code(s): 03110, 03111, 03112] | 14,400
B. Licenses for possession and use of byproduct material for field flooding tracer studies. [Program Code(s): 03113] | ⁵ N/A
6. Nuclear laundries:
A. Licenses for commercial collection and laundry of items contaminated with byproduct material, source material, or special nuclear material [Program Code(s): 03218] | 40,100
7. Medical licenses:
A. Licenses issued under parts 30, 35, 40, and 70 of this chapter for human use of byproduct material, source material, or special nuclear material in sealed sources contained in gamma stereotactic radiosurgery units, teletherapy devices, or similar beam therapy devices. This category also includes the possession and use of source material for shielding when authorized on the same license. [Program Code(s): 02300, 02310] | 24,700
B. Licenses of broad scope issued to medical institutions or two or more physicians under parts 30, 33, 35, 40, and 70 of this chapter authorizing research and development, including human use of byproduct material, except licenses for byproduct material, source material, or special nuclear material in sealed sources contained in teletherapy devices. This category also includes the possession and use of source material for shielding when authorized on the same license.⁹ [Program Code(s): 02110] | 37,500
C. Other licenses issued under parts 30, 35, 40, and 70 of this chapter for human use of byproduct material, source material, and/or special nuclear material, except licenses for byproduct material, source material, or special nuclear material in sealed sources contained in teletherapy devices. This category also includes the possession and use of source material for shielding when authorized on the same license.⁹ ²⁰ [Program Code(s): 02120, 02121, 02200, 02201, 02210, 02220, 02230, 02231, 02240, 22160] | 13,300
8. Civil defense:
A. Licenses for possession and use of byproduct material, source material, or special nuclear material for civil defense activities [Program Code(s): 03710] | 8,000
9. Device, product, or sealed source safety evaluation:
A. Registrations issued for the safety evaluation of devices or products containing byproduct material, source material, or special nuclear material, except reactor fuel devices, for commercial distribution | 7,900
B. Registrations issued for the safety evaluation of devices or products containing byproduct material, source material, or special nuclear material manufactured in accordance with the unique specifications of, and for use by, a single applicant, except reactor fuel devices | 13,200
C. Registrations issued for the safety evaluation of sealed sources containing byproduct material, source material, or special nuclear material, except reactor fuel, for commercial distribution | 7,800
D. Registrations issued for the safety evaluation of sealed sources containing byproduct material, source material, or special nuclear material, manufactured in accordance with the unique specifications of, and for use by, a single applicant, except reactor fuel | 1,600
10. Transportation of radioactive material:
A. Certificates of Compliance or other package approvals issued for design of casks, packages, and shipping containers.
1. Spent Fuel, High-Level Waste, and plutonium air packages | ⁶ N/A
2. Other Casks | ⁶ N/A
B. Quality assurance program approvals issued under part 71 of this chapter.
1. Users and Fabricators | ⁶ N/A
2. Users | ⁶ N/A
C. Evaluation of security plans, route approvals, route surveys, and transportation security devices (including immobilization devices) | ⁶ N/A
11. Standardized spent fuel facilities | ⁶ N/A
12. Special Projects [Program Code(s): 25110] | ⁶ N/A
13. A. Spent fuel storage cask Certificate of Compliance | ⁶ N/A
B. General licenses for storage of spent fuel under 10 CFR 72.210 | ¹² N/A
14. Decommissioning/Reclamation:
A. Byproduct, source, or special nuclear material licenses and other approvals authorizing decommissioning, decontamination, reclamation, or site restoration activities under parts 30, 40, 70, 72, and 76 of this chapter, including master materials licenses (MMLs) [Program Code(s): 3900, 11900, 21135, 21215, 21240, 21325, 22200] | ⁷ N/A
B. Site-specific decommissioning activities associated with unlicensed sites, including MMLs, whether or not the sites have been previously licensed | ⁷ N/A
15. Import and Export licenses | ⁸ N/A
16. Reciprocity | ⁸ N/A
17. Master materials licenses of broad scope issued to Government agencies [Program Code(s): 03614] | 343,000
18. Department of Energy:
A. Certificates of Compliance | ¹⁰ 1,623,000
B. Uranium Mill Tailings Radiation Control Act (UMTRCA) activities | 666,000
¹ Annual fees will be assessed based on whether a licensee held a valid license with the NRC authorizing possession and use of radioactive material during the current FY. The annual fee is waived for those materials licenses and holders of certificates, registrations, and approvals who either filed for termination of their licenses or approvals or filed for possession only/storage licenses before October 1, 2015, and permanently ceased licensed activities entirely before this date. Annual fees for licensees who filed for termination of a license, downgrade of a license, or for a possession-only license during the FY and for new licenses issued during the FY will be prorated in accordance with the provisions of § 171.17. If a person holds more than one license, certificate, registration, or approval, the annual fee(s) will be assessed for each license, certificate, registration, or approval held by that person. For licenses that authorize more than one activity on a single license (e.g., human use and irradiator activities), annual fees will be assessed for each category applicable to the license.
² Payment of the prescribed annual fee does not automatically renew the license, certificate, registration, or approval for which the fee is paid. Renewal applications must be filed in accordance with the requirements of parts 30, 40, 70, 71, 72, or 76 of this chapter.
³ Each FY, fees for these materials licenses will be calculated and assessed in accordance with § 171.13 and will be published in the Federal Register for notice and comment.
⁴ Other facilities include licenses for extraction of metals, heavy metals, and rare earths.
⁵ There are no existing NRC licenses in these fee categories. If NRC issues a license for these categories, the Commission will consider establishing an annual fee for this type of license.
⁶ Standardized spent fuel facilities, 10 CFR parts 71 and 72 Certificates of Compliance and related Quality Assurance program approvals, and special reviews, such as topical reports, are not assessed an annual fee because the generic costs of regulating these activities are primarily attributable to users of the designs, certificates, and topical reports.
⁷Licensees in this category are not assessed an annual fee because they are charged an annual fee in other categories while they are licensed to operate.
⁸ No annual fee is charged because it is not practical to administer due to the relatively short life or temporary nature of the license.
⁹ Separate annual fees will not be assessed for pacemaker licenses issued to medical institutions that also hold nuclear medicine licenses under fee categories 7.B. or 7.C.
¹⁰ This includes Certificates of Compliance issued to the U.S. Department of Energy that are not funded from the Nuclear Waste Fund.
¹¹ See § 171.15(c).
¹² See § 171.15(c).
¹³ No annual fee is charged for this category because the cost of the general license registration program applicable to licenses in this category will be recovered through 10 CFR part 170 fees.
¹⁴ Persons who possess radium sources that are used for operational purposes in another fee category are not also subject to the fees in this category. (This exception does not apply if the radium sources are possessed for storage only.)
¹⁵ Licensees paying annual fees under category 1.A., 1.B., and 1.E. are not subject to the annual fees for categories 1.C., 1.D., and 1.F. for sealed sources authorized in the license.
¹⁶ Licensees subject to fees under categories 1.A., 1.B., 1.E., or 2.A. must pay the largest applicable fee and are not subject to additional fees listed in this table.
¹⁷ Licensees paying fees under 3.C. are not subject to fees under 2.B. for possession
and shielding authorized on the same license.
¹⁸ Licensees paying fees under 7.C. are not subject to fees under 2.B. for possession
and shielding authorized on the same license.
¹⁹ Licensees paying fees under 3.N. are not subject to paying fees under 3.P. for calibration or leak testing services authorized on the same license.
²⁰ Licensees paying fees under 7.B. are not subject to paying fees under 7.C. for broad scope license licenses issued under parts 30, 35, 40, and 70 of this chapter for human use of byproduct material, source material, and/or special nuclear material, except licenses for byproduct material, source material, or special nuclear material in sealed sources contained in teletherapy devices authorized on the same license.

(e) The fee-relief adjustment allocated to annual fees includes the budgeted resources for the activities listed in paragraph (e)(1) of this section, plus the total budgeted resources for the activities included in paragraphs (e)(2) and (e)(3) of this section, as reduced by the appropriations the NRC receives for these types of activities. If the NRC's appropriations for these types of activities are greater than the budgeted resources for the activities included in paragraphs (e)(2) and (e)(3) of this section for a given fiscal year, a negative fee-relief adjustment (or annual fee reduction) will be allocated to annual fees. The activities comprising the FY 2015 fee-relief adjustment are as follows:

* * * * *

Dated at Rockville, Maryland, this 17th day of June 2015.
For the Nuclear Regulatory Commission.
Maureen E. Wylie,
Chief Financial Officer.

[FR Doc. 2015-15763 Filed 6-29-15; 8:45 am]

BILLING CODE 7590-01-P